ENVIRONMENTAL PROTECTION AGENCY

40 CFR Part 180

[EPA-HQ-OPP-2008-0232; FRL-8363-9]

Aldicarb, Ametryn, 2,4-DB, Dicamba, Dimethipin, Disulfoton, Diuron, et al.; Proposed Tolerance Actions

AGENCY: Environmental Protection Agency (EPA).

ACTION: Proposed rule.

SUMMARY: EPA is proposing to revoke certain tolerances for the insecticides/nematicides aldicarb, ethoprop, and oxamyl; the insecticides disulfoton, malathion, and methyl parathion; the miticide/acaricide propargite; the fungicides o-phenylphenol and its sodium salt, triadimefon, triadimenol, and ziram; the herbicides ametryn, dicamba, diuron, oxyfluorfen, and paraquat; the growth regulator/herbicide dimethipin; and the antimicrobial/insecticidal fumigant propylene oxide. Also, EPA is proposing to modify certain tolerances for the insecticide/nematicide oxamyl; the insecticide fenitrothion; the miticide/acaricide propargite; the molluscicide metaldehyde; the fungicides triadimefon and tridemorph; the herbicides ametryn, 2,4-DB, dicamba, and diuron; and the antimicrobial/insecticidal fumigant propylene oxide. In addition, EPA is proposing to establish tolerances for the insecticide/nematicide oxamyl; the molluscicide metaldehyde; the fungicides etridiazole and streptomycin; the herbicides 2,4-DB, dicamba, and diuron; and the antimicrobial/insecticidal fumigant propylene oxide and propylene chlorohydrin (a reaction product formed during the propylene oxide sterilization process). Finally, because tolerances expired in 2005, EPA is proposing to remove 40 CFR 180.167 for nicotine-containing compounds. The regulatory actions proposed in this document are in follow-up to the Agency's reregistration program under the Federal Insecticide, Fungicide, and Rodenticide Act (FIFRA), and tolerance reassessment program under the Federal Food, Drug, and Cosmetic Act (FFDCA) section 408(q).

DATES: Comments must be received on or before August 4, 2008.

ADDRESSES: Submit your comments, identified by docket identification (ID) number EPA-HQ-OPP-2008-0232, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2008-0232. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Joseph Nevola, Special Review and Reregistration Division (7508P), Office of Pesticide Programs, Environmental Protection Agency, 1200 Pennsylvania Ave, NW., Washington, DC 20460-0001; telephone number: (703) 308-8037; e-mail address: nevola.joseph@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II.A. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. What Can I do if I Wish the Agency to Maintain a Tolerance that the Agency Proposes to Revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under FFDCA section 408(f), if needed. The order would specify data needed and the timeframes for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What Action is the Agency Taking?

EPA is proposing to revoke, modify, and establish specific tolerances for residues of the insecticides/nematicides aldicarb, ethoprop, and oxamyl; the insecticides disulfoton, fenitrothion, malathion, and methyl parathion; the miticide/acaricide propargite; the molluscicide metaldehyde; the fungicides etridiazole, o-phenylphenol and its sodium salt, streptomycin, triadimefon, triadimenol, tridemorph, and ziram; the herbicides ametryn, 2,4-DB, dicamba, diuron, oxyfluorfen, and paraquat; the growth regulator/herbicide dimethipin; and the antimicrobial/insecticidal fumigant propylene oxide and its reaction product propylene chlorohydrin in or on commodities listed in the regulatory text. Also, because tolerances expired in 2005, the Agency is proposing to remove 40 CFR 180.167 for nicotine-containing compounds.

EPA is proposing these tolerance actions to implement the tolerance recommendations made during the reregistration and tolerance reassessment processes (including follow-up on canceled or additional uses of pesticides). As part of these processes, EPA is required to determine whether each of the amended tolerances meets the safety standard of FFDCA. The safety finding determination of “reasonable certainty of no harm” is discussed in detail in each Reregistration Eligibility Decision (RED) and Report of the Food Quality Protection Act (FQPA) Tolerance Reassessment Progress and Risk Management Decision (TRED) for the active ingredient. REDs and TREDs recommend the implementation of certain tolerance actions, including modifications to reflect current use patterns, meet safety findings, and change commodity names and groupings in accordance with new EPA policy. Printed copies of many REDs and TREDs may be obtained from EPA's National Service Center for Environmental Publications (EPA/NSCEP), P.O. Box 42419, Cincinnati, OH 45242-2419, telephone number: 1-800-490-9198; fax number: 1-513-489-8695; Internet at http://www.epa.gov/ncepihom and from the National Technical Information Service (NTIS), 5285 Port Royal Rd., Springfield, VA 22161, telephone number: 1-800-553-6847 or (703) 605-6000; Internet at http://www.ntis.gov. Electronic copies of REDs and TREDs are available on the Internet in public dockets for aldicarb (EPA-HQ-OPP-2005-0163), ametryn (EPA-HQ-OPP-2004-0411), 2,4-DB (EPA-HQ-OPP-2004-0220), dicamba (EPA-HQ-OPP-2005-0479), dimethipin (EPA-HQ-OPP-2004-0380), ethoprop (EPA-HQ-OPP-2002-0269), malathion (EPA-HQ-OPP-2004-0348), metaldehyde (EPA-HQ-OPP-2005-0231), methyl parathion (EPA-HQ-OPP-2003-0237), o-phenylphenol and its sodium salt (EPA-HQ-OPP-2006-0154), oxyfluorfen (EPA-HQ-OPP-2002-0255), propylene oxide (EPA-HQ-OPP-2005-0253), triadimefon (EPA-HQ-OPP-2005-0258), ziram (EPA-HQ-OPP-2004-0194), and TREDs for diuron (EPA-HQ-OPP-2002-0249), streptomycin (EPA-HQ-OPP-2005-0493), triadimenol (EPA-HQ-OPP-2006-0038), and tridemorph (EPA-HQ-OPP-2005-0505) at http://www.regulations.gov and REDs for disulfoton, diuron, etridiazole, fenitrothion, oxamyl, paraquat, and propargite at http://www.epa.gov/pesticides/reregistration/status.htm.

The selection of an individual tolerance level is based on crop field residue studies designed to produce the maximum residues under the existing or proposed product label. Generally, the level selected for a tolerance is a value slightly above the maximum residue found in such studies, provided that the tolerance is safe. The evaluation of whether a tolerance is safe is a separate inquiry. EPA recommends the raising of a tolerance when data show that:

1. Lawful use (sometimes through a label change) may result in a higher residue level on the commodity.

2. The tolerance remains safe, notwithstanding increased residue level allowed under the tolerance.

In REDs, Chapter IV on “Risk management, Reregistration, and Tolerance reassessment” typically describes the regulatory position, FQPA assessment, cumulative safety determination, determination of safety for U.S. general population, and safety for infants and children. In particular, the human health risk assessment document which supports the RED describes risk exposure estimates and whether the Agency has concerns. In TREDs, the Agency discusses its evaluation of the dietary risk associated with the active ingredient and whether it can determine that there is a reasonable certainty (with appropriate mitigation) that no harm to any population subgroup will result from aggregate exposure. EPA also seeks to harmonize tolerances with international standards set by the Codex Alimentarius Commission, as described in Unit III.

Explanations for proposed modifications in tolerances can be found in the RED and TRED document and in more detail in the Residue Chemistry Chapter document which supports the RED and TRED. Copies of the Residue Chemistry Chapter documents are found in the Administrative Record and electronic copies for aldicarb, ametryn, 2,4-DB, dimethipin, diuron, ethoprop, malathion, metaldehyde, methyl parathion, o-phenyphenol and salts, propylene oxide, streptomycin, triadimefon, triadimenol, and tridemorph can be found under their respective public docket ID numbers, identified in Unit II.A. Electronic copies for etridiazole, paraquat, and propargite can be found under public docket ID number EPA-HQ-OPP-2004-0154, oxyfluorfen under EPA-HQ-OPP-2007-0036, ziram under EPA-HQ-OPP-2005-0459, and residue documents for dicamba, fenitrothion, and oxamyl, are available in the public docket for this proposed rule. Electronic copies are available through EPA's electronic public docket and comment system, regulations.gov at http://www.regulations.gov. You may search for docket ID number EPA-HQ-OPP-2008-0232, then click on that docket ID number to view its contents.

EPA has determined that the aggregate exposures and risks are not of concern for the above mentioned pesticide active ingredients based upon the data identified in the RED or TRED which lists the submitted studies that the Agency found acceptable.

EPA has found that the tolerances that are proposed in this document to be modified, are safe; i.e., that there is a reasonable certainty that no harm will result to infants and children from aggregate exposure to the pesticide chemical residues, in accordance with FFDCA section 408(b)(2)(C). (Note that changes to tolerance nomenclature do not constitute modifications of tolerances). These findings are discussed in detail in each RED or TRED. The references are available for inspection as described in this document under SUPPLEMENTARY INFORMATION.

In addition, EPA is proposing to revoke certain specific tolerances because either they are no longer needed or are associated with food uses that are no longer registered under FIFRA. Those instances where registrations were canceled were because the registrant failed to pay the required maintenance fee and/or the registrant voluntarily requested cancellation of one or more registered uses of the pesticide. It is EPA's general practice to propose revocation of those tolerances for residues of pesticide active ingredients on crop uses for which there are no active registrations under FIFRA, unless any person in comments on the proposal indicates a need for the tolerance to cover residues in or on imported commodities or legally treated domestic commodities.

1. Aldicarb. Because sugarcane forage and sugarcane stover are no longer considered by the Agency to be significant livestock feed items as delineated in “Table 1. -Raw Agricultural and Processed Commodities and Feedstuffs Derived from Crops,” which is found in Residue Chemistry Test Guidelines OPPTS 860.1000 dated August 1996 (available at http://www.epa.gov/opptsfrs/publications/OPPTS_Harmonized/860_Residue_Chemistry_Test_Guidelines/Series/), EPA determined that the tolerances are no longer needed, and therefore should be revoked. Consequently, EPA is proposing to revoke the tolerances in 40 CFR 180.269 for the combined residues of aldicarb and its cholinesterase-inhibiting metabolites 2-methyl 2-(methylsulfinyl) propionaldehyde O-(methylcarbamoyl) oxime and 2-methyl-2-(methylsulfonyl) propionaldehyde O-(methylcarbamoyl) oxime in or on sugarcane, forage and sugarcane, stover.

EPA is not proposing other tolerance actions for aldicarb at this time because of public comments received by the Agency to the aldicarb RED notice of availability, published in the Federal Register on October 12, 2007 (72 FR 58082)(FRL-8152-3). The Agency will review the comments and propose any appropriate tolerance actions in a future publication in the Federal Register.

2. Ametryn. Because pineapple, fodder; pineapple, forage; sugarcane, forage; and sugarcane, stover are no longer considered by the Agency to be significant livestock feed items as delineated in “Table 1.—Raw Agricultural and Processed Commodities and Feedstuffs Derived from Crops,” which is found in Residue Chemistry Test Guidelines OPPTS 860.1000 dated August 1996 (available at http://www.epa.gov/opptsfrs/publications/OPPTS_Harmonized/860_Residue_Chemistry_Test_Guidelines/Series), EPA determined that these tolerances in 40 CFR 180.258 are no longer needed, and therefore should be revoked. Consequently, EPA is proposing to revoke the tolerances in 40 CFR 180.258 for residues of ametryn in or on pineapple, fodder; pineapple, forage; sugarcane, forage; and sugarcane, stover.

Because there are no active registrations for use of ametryn on taniers, yams, and cassava in the United States, EPA determined that the tolerances in 40 CFR 180.258(a) on tanier and yam, true, tuber and the regional tolerance in 40 CFR 180.258(c) on cassava, roots are no longer needed and therefore, should be revoked. Consequently, the Agency is proposing to revoke the tolerances in 40 CFR 180.258(a) on tanier and yam, true, tuber and the regional tolerance in 40 CFR 180.258(c) on cassava, roots; and reserve section (c).

Based on available data showing ametryn residues as high as 0.10 ppm on field corn forage and <0.02 ppm on field corn grain and stover, EPA determined that the tolerance on corn, forage at 0.5 ppm should be revised to corn, sweet, forage at 0.5 ppm and corn, field, forage decreased from 0.5 to 0.1 ppm; the tolerance on corn, grain at 0.25 ppm should be revised to corn, field, grain and corn, pop, grain, and each decreased from 0.25 to 0.05 ppm; and the tolerance on corn, stover at 0.5 ppm should be revised to corn, sweet, stover at 0.5 ppm; corn, field, stover and corn, pop, stover, and both decreased from 0.5 to 0.05 ppm. Therefore, the Agency is proposing to decrease the tolerances in 40 CFR 180.258(a) on corn, field, forage to 0.1 ppm, corn, field, grain to 0.05 ppm; corn, pop, grain to 0.05 ppm; corn, field, stover to 0.05 ppm; and corn, pop, stover to 0.05 ppm, and maintain at 0.5 ppm the revised tolerances on corn, sweet, forage and corn, sweet, stover.

Based on available data showing ametryn residues as high as 0.05 ppm on pineapple and <0.02 ppm on sugarcane, EPA determined that the tolerances should each be decreased from 0.25 to 0.05 ppm. Therefore, the Agency is proposing to decrease the tolerances in 40 CFR 180.258(a) on pineapple and sugarcane, cane; each to 0.05 ppm.

Because the registrant has requested voluntary cancellation of an active registration with the last uses of ametryn for bananas and sweet corn (72 FR 71898, December 19, 2007) (FRL-8343-9), EPA expects to address these tolerances in a future notice in the Federal Register.

There are no Codex Maximum Residue Limits (MRLs) for ametryn.

3. 2,4-DB. Currently, tolerances for 4-(2,4-dichlorophenoxy) butyric acid, known as 2,4-DB, in 40 CFR 180.331 exist for the combined residues of 2,4-DB and its metabolite 2,4-dichlorophenoxyacetic acid, known as 2,4-D. Based on plant and livestock metabolism data, the Agency determined (as described in the RED and Residue Chemistry Chapter) that residues of concern for plant and livestock commodities should be 2,4-DB per se because the metabolite 2,4-D is present only at low levels. Therefore, EPA is proposing to revise the introductory text containing the tolerance expression in 40 CFR 180.331 as follows:

Tolerances are established for the residues of the herbicide 4-(2,4-dichlorophenoxy) butyric acid (2,4-DB), both free and conjugated, determined as the acid, in or on food commodities as follows.

Based on available field trial data that showed 2,4-DB residues as high as 0.49 ppm in or on alfalfa forage and 1.7 ppm on alfalfa hay, EPA determined that the tolerance on alfalfa at 0.2 ppm should be divided into alfalfa forage and hay, increased to 0.7 ppm and 2.0 ppm, respectively, and that since the data could be translated to birdsfoot trefoil, the tolerance on birdsfoot trefoil at 0.2 ppm should be divided into trefoil forage and hay, and increased to 0.7 ppm and 2.0 ppm, respectively. Therefore, the Agency is proposing in 40 CFR 180.331 to revise the tolerance on alfalfa to alfalfa, forage and alfalfa, hay, and increase the tolerance on alfalfa, forage to 0.7 ppm and alfalfa, hay to 2.0 ppm, and revise the tolerance on trefoil, birdsfoot to trefoil, forage and trefoil, hay, and increase the tolerance on trefoil, forage to 0.7 ppm and trefoil, hay to 2.0 ppm. The Agency determined that the increased tolerances are safe; i.e., there is a reasonable certainty that no harm will result from aggregate exposure to the pesticide chemical residue.

Based on ruminant feeding data and Maximum Theoretical Dietary Burden (MTDB) for cattle, EPA determined that there is no reasonable expectation of finite residues of 2,4-DB residues in the milk or in the meat and fat of cattle, goats, hogs, horses, and sheep resulting from the feeding of 2,4-DB treated commodities. Therefore, tolerances on milk, and the fat and meat of livestock are not needed under 40 CFR 180.6(a)(3). However, based on that ruminant feeding data, which showed residues of 2,4-DB in or on kidney and liver were <0.05 ppm, the limit of quantitation (LOQ), the Agency determined that tolerances on the meat byproducts of cattle, goats, hogs, horses, and sheep should be established at 0.05 ppm. Therefore, EPA is proposing to establish tolerances in 40 CFR 180.331 on cattle, meat byproducts; goat, meat byproducts; hog, meat byproducts; horse, meat byproducts; and sheep, meat byproducts, each at 0.05 ppm.

Based on available field trial data that showed 2,4-DB residues as high as 0.45 ppm in or on soybeans at a Preharvest Interval (PHI) of at least 60 days, and 0.64 ppm in or on soybean forage at a PGI (pre-grazing interval) of at least 60 days, EPA determined that the tolerance on soybean should be increased from 0.2 to 0.5 ppm, and a tolerance on soybean forage should be established at 0.7 ppm. In addition, based on the tolerance recommended at 0.7 ppm for forage, feedstuff percent dry matter values of 35% and 85% for forage and hay, respectively, and a dry-down factor of 2.4X, EPA determined that the tolerance on soybean hay should be increased from 0.2 to 2.0 ppm. Therefore, the Agency is proposing in 40 CFR 180.331 to revise the tolerance on soybean to soybean, seed and increase the tolerance on soybean, seed to 0.5 ppm, increase the tolerance on soybean, hay to 2.0 ppm, and establish a tolerance on soybean, forage at 0.7 ppm. The Agency determined that the increased tolerances are safe; i.e., there is a reasonable certainty that no harm will result from aggregate exposure to the pesticide chemical residue.

Also, in 40 CFR 180.331, EPA is proposing to remove the “(N)” designation from all entries to conform to current Agency administrative practice, where the “(N)” designation means negligible residues. In addition, in 40 CFR 180.331, EPA is proposing to revise the commodity terminology for “mint, hay” to “peppermint, tops” and “spearmint, tops.

In accordance with current Agency practice, EPA is proposing to revise 40 CFR 180.331 by adding separate paragraphs (b), (c), and (d), and reserving those sections for tolerances with section 18 emergency exemptions, regional registrations, and indirect or inadvertent residues, respectively.

At this time, EPA is not taking action to decrease the tolerance for 2,4-DB on peanut pending verification that registration amendments that specify a minimum 60-day PHI for use on peanuts are available for Agency approval.

There are no Codex MRLs for residues of 2,4-DB.

4. Dicamba. The tolerances in 40 CFR 180.227 for combined dicamba residues of concern in or on sugarcane forage and sugarcane stover should be revoked because the Agency considers these commodities to no longer be significant livestock feed items, and therefore their tolerances are no longer needed. Consequently, EPA is proposing to revoke the tolerances in 40 CFR 180.227(a)(1) for combined dicamba residues of concern in or on sugarcane, forage; and sugarcane, stover.

Based on available field trial data that showed dicamba residues of concern as high as 0.015 ppm in or on corn grain, the Agency determined that the tolerance on corn grain should be decreased from 0.5 to 0.1 ppm and revised to corn, field, grain and corn, pop, grain. Therefore, EPA is proposing in 40 CFR 180.227(a)(1) to decrease the tolerance on corn, grain to 0.1 ppm and revise the tolerance from corn grain to corn, field, grain and corn, pop, grain, each at 0.1 ppm.

Based on the translation of available data from wheat grain and straw that showed dicamba residues of concern as high as 1.4 ppm and 26 ppm, respectively, EPA determined that the registrations for wheat, oat, millet proso, and rye should specify a maximum seasonal rate of 0.5 lb acid equivalents per acre (ae/A) for grain and straw, and a 7-day PHI for straw, and that the expected residues in or on the grains of oat, proso millet, and rye would each be as high as 1.4 ppm, and straws of oat, proso millet, and rye would each be as high as 26 ppm, and therefore the tolerances on oat grain and proso millet grain should each be increased from 0.5 to 2.0 ppm, tolerances on oat straw and proso millet straw should each be increased from 0.5 to 30.0 ppm, and tolerances on rye grain and rye straw should be established at 2.0 ppm and 30.0 ppm, respectively. Consequently, the Agency is proposing in 40 CFR 180.227(a)(1) to increase the tolerances on oat, grain to 2.0 ppm; millet, proso, grain to 2.0 ppm; oat, straw to 30.0 ppm, millet, proso, straw to 30.0 ppm, and establish tolerances on rye, grain at 2.0 ppm and rye, straw at 30.0 ppm. The Agency determined that the increased tolerances are safe; i.e., there is a reasonable certainty that no harm will result from aggregate exposure to the pesticide chemical residue.

Based on available data from wheat forage and hay that showed dicamba residues of concern as high as 86 ppm (0-day PHI) and 34 ppm (14-day PHI), respectively, EPA determined that the registrations for wheat, oat, millet proso, and rye should specify a 14-day PHI for hay and tolerances on wheat forage and hay should be increased from 80.0 to 90.0 ppm and from 20.0 to 40.0 ppm, respectively. Also, based on the translation of the wheat data to oats, proso millet, and rye, the Agency expected residues in or on the forage of oat, proso millet, and rye would each be as high as 86 ppm (0-day PHI), and hay of oat and proso millet would each be as high as 34 ppm (14-day PHI), and therefore the tolerance on oat forage should be increased from 80.0 to 90.0 ppm and tolerances on the forage of proso millet and rye should each be established at 90.0 ppm, and the tolerance on oat hay should be increased from 20.0 to 40.0 ppm, and a tolerance on proso millet hay should be established at 40.0 ppm. Consequently, the Agency is proposing in 40 CFR 180.227(a)(1) to increase the tolerances on oat, forage and wheat, forage, each to 90.0 ppm; increase the tolerances on oat, hay and wheat, hay, each to 40.0 ppm; and establish tolerances on millet, proso, forage at 90.0 ppm, rye, forage at 90.0 ppm, and millet, proso, hay at 40.0 ppm. The Agency determined that the increased tolerances are safe; i.e., there is a reasonable certainty that no harm will result from aggregate exposure to the pesticide chemical residue.

Based on available field trial data that showed dicamba residues of concern in or on sorghum grain as high as 3.16 ppm (30-day PHI) and sorghum stover as high as 4.29 ppm (30-day PHI), EPA determined that the registrations for sorghum grain and stover should specify a 30-day PHI and the tolerances on sorghum grain and sorghum stover should be increased from 3.0 to 4.0 ppm and from 3.0 to 10.0 ppm. Therefore, the Agency is proposing in 40 CFR 180.227(a)(1) to increase the tolerances on sorghum, grain, grain to 4.0 ppm and sorghum, grain, stover to 10.0 ppm. The Agency determined that the increased tolerances are safe; i.e., there is a reasonable certainty that no harm will result from aggregate exposure to the pesticide chemical residue.

Based on available field trial data that showed dicamba residues of concern as high as 0.05 ppm in or on cottonseed and a combined LOQ of 0.1 ppm, the Agency determined that the tolerance on cottonseed should be decreased from 5.0 to 0.2 ppm. Also, the Agency calculated that the proposed tolerance level for cottonseed is greater than the highest average field trial (HAFT) multiplied by the concentration factor of 1.9x in meal, and determined that a separate tolerance for cotton meal is no longer needed, and therefore should be revoked. Consequently, EPA is proposing in 40 CFR 180.227(a)(1) to decrease the tolerance on cotton, undelinted seed to 0.2 ppm and revoke the tolerance on cotton, meal.

Based on available cattle exaggerated feeding data (about 2.1x MTDB) of dicamba that showed combined maximum dicamba residues of concern in fat at 0.511 ppm, 46.64 ppm in kidney, 5.06 ppm in liver, 0.392 ppm in muscle, <0.01 ppm in whole milk, and 0.165 ppm in cream, EPA calculated that the maximum expected residues in fat, kidney, liver, muscle, whole milk and cream at 1x MTDB to be 0.24 ppm, 22.2 ppm, 2.41 ppm, 0.19 ppm, <0.01 ppm and 0.09 ppm, respectively. Therefore, the Agency determined that the tolerances for the fat of cattle, goats, hogs, horses, and sheep should be increased from 0.2 to 0.3 ppm; the kidney of cattle, goats, hogs, horses, and sheep should be increased from 1.5 to 25.0 ppm; the liver of cattle, goats, hogs, horses, and sheep should be revoked because these separate tolerances are no longer needed since they will be covered by redefined meat byproduct tolerances of cattle, goats, hogs, horses, and sheep that should be increased from 0.2 to 3.0 ppm and revised to meat byproducts, except kidney; the meat of cattle, goats, hogs, horses, and sheep should be increased from 0.2 to 0.25 ppm; and the tolerance on milk should be decreased from 0.3 to 0.2 ppm. Consequently, EPA is proposing in 40 CFR 180.227(a)(2) to increase the tolerances on cattle, fat; goat, fat; hog, fat; horse, fat; and sheep, fat, each to 0.3 ppm; on cattle, kidney; goat, kidney; hog, kidney; horse, kidney; and sheep, kidney, each to 25.0 ppm; revise the terminology and increase the tolerances on cattle, meat byproducts, except kidney; goat, meat byproducts, except kidney; hog, meat byproducts, except kidney; horse, meat byproducts, except kidney; and sheep, meat byproducts, except kidney, each to 3.0 ppm; increase the tolerances on cattle, meat; goat, meat; hog, meat; horse, meat; and sheep, meat, each to 0.25 ppm; decrease the tolerance on milk to 0.2 ppm; and revoke the separate tolerances on cattle, liver; goat, liver; hog, liver; horse, liver; and sheep, liver. The Agency determined that the increased tolerances are safe; i.e., there is a reasonable certainty that no harm will result from aggregate exposure to the pesticide chemical residue.

Based on available processing data that showed combined dicamba residues of concern concentrated by a factor of 3.8x in soybean hulls (but did not concentrate in any of the other soybean processed fractions), and a HAFT combined residue level of 7.44 ppm, EPA expected residues of 28.3 ppm and determined that the tolerance on soybean, hulls should be increased from 13.0 to 30.0 ppm. Therefore, EPA is proposing in 40 CFR 180.227(a)(3) to increase the tolerance on soybean, hulls to 30.0 ppm. The Agency determined that the increased tolerance is safe; i.e., there is a reasonable certainty that no harm will result from aggregate exposure to the pesticide chemical residue.

Based on available data on the aspirated grain fractions (also known as grain dusts) of sorghum, soybean, and wheat, where the highest processing factor found was 670x in soybean seed aspirated grain fractions, and average dicamba residues of concern at 1.36 ppm in or on soybean seed, EPA expected residues as high as 941 ppm and determined that the tolerance on aspirated fractions of grain should be decreased from 5,100 to 1,000 ppm. Therefore, EPA is proposing in 40 CFR 180.227(a)(3) to decrease the tolerance on grain, aspirated fractions to 1,000 ppm.

At this time, EPA is not taking the following actions for dicamba residues of concern: to increase tolerances on grass forage and hay pending verification of the status of one registration whose maximum rate may be above the 2.0 lb ae/A rate associated with the field trial data, to decrease the tolerance on sorghum forage pending verification that registration amendments that specify a maximum single/seasonal rate of 0.25 lb ae/A and 20-day PHI for sorghum forage are available for Agency approval, and to increase sugarcane molasses pending the Agency's receipt and approval of storage stability data. The Agency will take any appropriate tolerance actions for these commodities in a future publication in the Federal Register.

In addition, in 40 CFR 180.227(a)(1), EPA is proposing to revise the commodity terminology “sorghum, forage” to “sorghum, grain, forage” and revise the crop group 17 tolerance terminologies for “grass, forage” and “grass, hay” to “grass, forage, fodder and hay, group 17, forage” and “grass, forage, fodder and hay, group 17, hay.”

There are no Codex MRLs for dicamba.

5. Dimethipin. On April 11, 2007, EPA published a notice in the Federal Register (72 FR 18238) (FRL-8123-6) that announced the Agency's receipt of requests from the registrant to voluntarily cancel all dimethipin registrations and therefore terminate the last dimethipin uses in or on cotton. EPA approved cancellation of the registrations by issuing a letter as the final cancellation order with the close of the 30-day comment period, made them effective on May 31, 2007, and permitted the registrants for the canceled registrations to sell and distribute existing stocks for 24 months; i.e., until May 31, 2009. Also, EPA permitted persons other than the registrant to sell, distribute, and conforming to the EPA-approved label and labeling of the products, use existing dimethipin pesticide stocks on cotton until exhaustion. The Agency believes that end users will have had sufficient time to exhaust those existing stocks and for treated cotton commodities to have cleared the channels of trade by May 31, 2010. While dimethipin-treated cotton seed, meal, and gin-byproducts may be part of the diet of livestock, termination of dimethipin uses on cotton means that remaining livestock tolerances are no longer needed and should be revoked. In addition, while the Agency previously retained meat and meat byproducts tolerances to harmonize with Codex MRLs (72 FR 52013, September 12, 2007)(FRL-8142-2), it had already determined from feeding data that there is no expectation of finite residues of dimethipin in the fat, meat, or meat byproducts of cattle, goats, horses, hogs, and sheep. Therefore, EPA is proposing to revoke the tolerances in 40 CFR 180.406 on cotton, undelinted seed; cattle, meat; cattle, meat byproducts; goat, meat; goat, meat byproducts; hog, meat; hog, meat byproducts; horse, meat; horse, meat byproducts; sheep, meat; and sheep, meat byproducts, each with an expiration/revocation date of May 31, 2010.

6. Disulfoton. Because there have been no active registrations for disulfoton, O,O-diethyl S-[2-(ethylthio)ethyl] phosphorodithioate, use on dry beans, sorghum, and soybeans since February 2002, and on sugarcane since 1991, EPA determined that the tolerances on dry beans, sorghum, soybeans, and sugarcane are no longer needed and should be revoked. Consequently, the Agency is proposing to revoke the tolerances in 40 CFR 180.183(a) on bean, dry, seed; sorghum, forage; sorghum, grain, grain; sorghum, grain, stover; soybean; soybean, forage; soybean, hay; and sugarcane, cane.

Also, because the tolerances expired on December 9, 2003, EPA is proposing to remove the entries for corn, field, forage; corn, field, grain; corn, field, stover; corn, pop, forage; corn, pop, grain; corn, pop, stover; corn, sweet, forage; corn, sweet, kernel plus cob with husks removed; corn, sweet, stover; oat, grain; oat, hay; oat, straw; and pecan from 40 CFR 180.183(a).

In addition, EPA is proposing to revise commodity terminology to conform to current Agency practice as follows: in 40 CFR 180.183(a), “pea” to “pea, dry, seed,” and “pea, succulent.”

There are Codex MRLs for combined residues of disulfoton, demeton-S, and their sulphoxides and sulphones on a number of commodities, including MRLs on dry beans, oats, oat straw, and pecans.

7. Diuron. Currently, tolerances for diuron, 3-(3,4-dichlorophenyl)-1,1-dimethylurea, in 40 CFR 180.106(a)(1) are established for residues of diuron per se and in § 180.106(a)(2) are established for combined residues of diuron and its metabolites convertible to 3,4-dichloroaniline. Based on plant and animal metabolism data, the Agency had determined that residues of concern for plant and livestock commodities should include metabolites hydrolysable to 3,4-dichloroaniline. Therefore, EPA is proposing to remove § 180.106(a)(2) and combine the tolerances there with those in § 180.106(a)(1), under newly recodified § 180.106(a), and revise the introductory text containing the tolerance expression in newly recodified 40 CFR 180.106(a), as follows:

Tolerances are established for the combined residues of the herbicide diuron, 3-(3,4-dichlorophenyl)-1,1-dimethylurea, and its metabolites convertible to 3,4-dichloroaniline in or on food commodities as follows.

Also, as a result of combining tolerances in § 180.106(a)(1) and (a)(2) under newly recodified § 180.106(a), there will be two tolerances on peppermint tops, one at 1.5 ppm and the other at 2 ppm. Based on available field trial data that showed diuron residues of concern as high as 1.3 ppm in or on peppermint tops, the Agency determined that the appropriate tolerance is 1.5 ppm, and the tolerance on peppermint tops at 2 ppm is no longer needed, and therefore should be revoked. Consequently, while EPA is proposing to revoke the tolerance in 40 CFR 180.106(a)(1) on peppermint, tops at 2 ppm, it will maintain the tolerance on peppermint, tops at 1.5 ppm.

Because vetch seed is no longer considered by the Agency to be a significant livestock feed item as delineated in “Table 1.—Raw Agricultural and Processed Commodities and Feedstuffs Derived from Crops,” which is found in Residue Chemistry Test Guidelines OPPTS 860.1000 dated August 1996 (available at http://www.epa.gov/opptsfrs/publications/OPPTS_Harmonized/860_Residue_Chemistry_Test_Guidelines/Series/), EPA determined that the tolerance is no longer needed, and therefore should be revoked. Consequently, EPA is proposing to revoke the tolerance in 40 CFR 180.106(a)(1) on vetch, seed.

Because there are no active registrations for diuron use on potatoes and rye, the Agency determined that the tolerances on potato; rye, forage; rye, grain; and rye, straw are no longer needed and should be revoked. Therefore, EPA is proposing to revoke the tolerances in 40 CFR 180.106(a)(1) on potato; rye, forage; rye, grain; and rye, straw.

Because there are no active registrations for diuron use on sweet corn, the Agency determined that the tolerances on sweet corn forage and stover are no longer needed and should be revoked. Therefore, EPA is proposing to revoke the tolerances in 40 CFR 180.106(a)(1) on corn, sweet, forage and corn, sweet, stover. Also, the tolerance on corn in grain or ear form (including sweet corn, field corn, popcorn) should be revised to corn, field, grain and corn, pop, grain. Based on available field trial data that showed diuron residues of concern as high as <0.1 ppm in or on field corn grain and translating that data to support use of diuron on popcorn grain, the Agency determined that the tolerances on field corn and popcorn grain should each be set at 0.1 ppm. Therefore, EPA is proposing to revoke the tolerance in 40 CFR 180.106(a)(1) on corn in grain or ear form (including sweet corn, field corn, popcorn) and establish separate tolerances on corn, field, grain; and corn, pop, grain; each at 0.1 ppm.

Based on available field trial data that showed diuron residues of concern as high as 2.58 ppm in or on alfalfa forage, EPA determined that the tolerance on alfalfa should be divided into alfalfa forage and alfalfa hay and the tolerance on alfalfa forage should be increased from 2.0 to 3.0 ppm. Therefore, the Agency is proposing in recodified 40 CFR 180.106(a) to revise the nomenclature for alfalfa to read alfalfa, forage and alfalfa, hay and to increase the tolerance on alfalfa, forage to 3.0 ppm. The Agency determined that the increased tolerance is safe; i.e., there is a reasonable certainty that no harm will result from aggregate exposure to the pesticide chemical residue.

Based on available field trial data that showed diuron residues of concern as high as 0.07 ppm in or on apple, 0.18 ppm in or on cottonseed, <0.03 ppm in or on grapes, 0.065 ppm in or on pineapple, 0.1 ppm in or on field pea seed, 0.33 ppm in or on grain sorghum, 0.20 ppm in or on sugarcane, 0.29 ppm in or on wheat grain, and 1.17 ppm in or on wheat straw, EPA determined that the tolerances on apple, cottonseed, grape, pineapple, field pea seed, grain sorghum, sugarcane, wheat grain, and wheat straw should be decreased from 1.0 to 0.1 ppm, 1.0 to 0.2 ppm, 1.0 to 0.05 ppm, 1.0 to 0.1 ppm, 1.0 to 0.1 ppm, 1.0 to 0.5 ppm, 1.0 to 0.2 ppm, 1.0 to 0.5 ppm, and 2.0 to 1.5 ppm, respectively. Therefore, the Agency is proposing in recodified 40 CFR 180.106(a) to decrease the tolerances on apple to 0.1 ppm, cotton, undelinted seed to 0.2 ppm, grape to 0.05 ppm, pineapple to 0.1 ppm, pea to 0.1 ppm and revise the tolerance nomenclature for pea to pea, field, seed; sorghum, grain, grain to 0.5 ppm; sugarcane, cane to 0.2 ppm, wheat, grain to 0.5 ppm, and wheat, straw to 1.5 ppm.

Based on active registrations for use of diuron on barley restricted to western OR and western WA and available field trial data that showed diuron residues of concern as high as 0.15 ppm in or on barley grain and the translation of wheat straw data to barley straw, EPA determined that the tolerances on barley grain and hay should be recodified from 40 CFR 180.106(a)(1) to 40 CFR 180.106(c) as regional tolerances and the tolerance on barley grain be decreased from 1.0 to 0.2 ppm, and a tolerance should be established for barley straw at 1.5 ppm. Therefore, the Agency is proposing to recodify the tolerances on barley, grain and barley, hay currently in 40 CFR 180.106(a)(1) to 40 CFR 180.106(c) and decrease the tolerance on barley, grain to 0.2 ppm, and establish a tolerance in 40 CFR 180.106(c) on barley, straw at 1.5 ppm.

Based on available processing data that showed an average concentration factor of 17x for wheat grain aspirated grain fractions and 2.3x for wheat bran, a HAFT value of 0.29 ppm for wheat, and translation of wheat bran data to support barley bran, EPA determined that the expected combined diuron residues of concern in wheat grain aspirated fractions are 4.9 ppm and wheat bran are 0.67 ppm, which are both greater than the reassessed tolerance for wheat grain of 0.5 ppm, and barley, grain of 0.2 ppm and therefore tolerances should be established for aspirated grain fractions at 5.0 ppm, wheat bran at 0.7 ppm, and barley bran at 0.7 ppm. Consequently, EPA is proposing to establish tolerances in recodified 40 CFR 180.106(a) for grain, aspirated fractions at 5.0 ppm and wheat, bran at 0.7 ppm, and in 40 CFR 180.106(c) for barley, bran at 0.7 ppm.

Based on active registrations for use of diuron on clover restricted to western OR and available field trial data that showed diuron residues of concern as high as 0.07 ppm in or on clover forage and 0.7 ppm in or on clover hay, EPA determined that the tolerances on clover forage and hay should be recodified from 40 CFR 180.106(a)(1) to 40 CFR 180.106(c) as regional tolerances and the tolerances on clover forage and hay be decreased from 2.0 to 0.1 ppm and 1.0 ppm, respectively. Therefore, the Agency is proposing in 40 CFR 180.106(a)(1) to recodify the tolerances on clover, forage and clover, hay to 40 CFR 180.106(c) and decrease the tolerance on clover, forage to 0.1 ppm and clover, hay to 1.0 ppm.

Based on active registrations for use of diuron on oats restricted to ID, OR and WA and available field trial data that showed diuron residues of concern as high as <0.1 ppm in or on oat grain and translation of wheat straw data (residues as high as 1.17 ppm) to oat straw, EPA determined that the tolerances on oat forage, grain, hay, and straw should be recodified from 40 CFR 180.106(a)(1) to 40 CFR 180.106(c) as regional tolerances and the tolerances on oat grain and straw be decreased from 1.0 to 0.1 ppm and 2.0 to 1.5 ppm, respectively. Therefore, the Agency is proposing in 40 CFR 180.106(a)(1) to recodify the tolerances on oat, forage; oat, grain; oat, hay; and oat, straw to 40 CFR 180.106(c) and decrease the tolerances on oat, grain to 0.1 ppm and oat, straw to 1.5 ppm.

Based on active registrations for use of diuron on trefoil restricted to western OR, available field trial data that showed diuron residues of concern as high as 1.3 ppm in or on trefoil hay, and translation of clover forage (residues as high as 0.07 ppm) data to support trefoil forage, EPA determined that the tolerances on trefoil forage and hay should be recodified from 40 CFR 180.106(a)(1) to 40 CFR 180.106(c) as regional tolerances and decreased from 2.0 to 0.1 ppm for forage and 2.0 to 1.5 ppm for hay. Therefore, the Agency is proposing in 40 CFR 180.106(a)(1) to recodify the tolerances on trefoil, forage and trefoil, hay to 40 CFR 180.106(c) and decrease them to 0.1 ppm and 1.5 ppm, respectively.

Based on active registrations for use of diuron on vetch restricted to ID, OR and WA and translation of clover forage and hay data (residues as high as 0.07 ppm and 0.7 ppm, respectively) to vetch forage and hay, EPA determined that the tolerances on vetch forage and hay should be recodified from 40 CFR 180.106(a)(1) to 40 CFR 180.106(c) as regional tolerances and the tolerances on vetch forage and hay be decreased from 2.0 to 0.1 ppm and 2.0 to 1.5 ppm, respectively. Therefore, the Agency is proposing in 40 CFR 180.106(a)(1) to recodify the tolerances on vetch, forage and vetch, hay to 40 CFR 180.106(c) and decrease them to 0.1 ppm and 1.5 ppm, respectively.

Because acceptable field trial data are available for the representative commodities of the berry crop group (blackberry, blueberry, and raspberry), and data for blackberries and raspberries may be translated to support use on loganberries, and data for blueberries may be translated to support use on gooseberries, EPA determined that a crop group tolerance should be established concomitant with the removal of individual berry tolerances. Also, based on data that showed diuron residues of concern as high as <0.1 ppm on blackberries and raspberries, the Agency determined that the group tolerance should be decreased from the level of the individual tolerances; i.e., from 1.0 to 0.1 ppm. Therefore, the Agency is proposing to revoke the individual tolerances on blackberry, blueberry, boysenberry, currant, dewberry, gooseberry, huckleberry, loganberry, and raspberry in 40 CFR 180.106(a)(1) and establish a tolerance on berry group 13 at 0.1 ppm in recodified 40 CFR 180.106(a).

Based on available field trial data that showed diuron residues of concern in or on grapefruit and oranges below the limit of quantitation (LOQ) of 0.0345 ppm and in or on lemons as high as 0.33 ppm, EPA determined that the citrus fruit tolerance should be revised to fruit, citrus, group 10, except lemon and decreased from 1.0 to 0.05 ppm, and a separate tolerance on lemon should be established at 0.5 ppm. Therefore, the Agency is proposing in recodified 40 CFR 180.106(a) to revise the tolerance on fruit, citrus to fruit, citrus, group 10, except lemon and decrease it to 0.05 ppm, and establish a tolerance on lemon at 0.5 ppm.

In addition, based on available processing data that showed average concentration factors of 1.9x for citrus dried pulp and 10.5x for citrus oil, and the HAFT value for lemons (0.27 ppm), EPA determined that the expected combined diuron residues of concern in citrus dried pulp and citrus oil are 0.51 ppm and 2.8 ppm, respectively. Because the expected residues in citrus dried pulp are approximately the same as the reassessed tolerance for lemons, the Agency determined that a tolerance for citrus dried pulp is no longer needed and therefore should be revoked, and a tolerance for citrus oil should be established at 3.0 ppm. Therefore, EPA is proposing in 40 CFR 180.106(a)(1) to revoke the tolerance on citrus, dried pulp and establish a tolerance on citrus, oil at 3.0 ppm in recodified 40 CFR 180.106(a).

Based on available processing data that showed an average concentration factor of 4.7x for pineapple pulp, and a HAFT value of 0.065 ppm for pineapple, EPA determined that the expected combined diuron residues of concern in pineapple process residue are 0.31 ppm, which is greater than the reassessed tolerance for pineapple of 0.1 ppm, and therefore a tolerance should be established for pineapple process residue at 0.4 ppm. Consequently, EPA is proposing to establish a tolerance in recodified 40 CFR 180.106(a) for pineapple, process residue at 0.4 ppm.

Based on available processing data that showed an average concentration factor of 3.27x for blackstrap molasses, and a HAFT value of 0.2 ppm for sugarcane, EPA determined that the expected combined diuron residues of concern in sugarcane molasses are 0.654 ppm, which is greater than the reassessed tolerance for sugarcane of 0.20 ppm, and therefore a tolerance should be established for sugarcane molasses at 0.7 ppm. Consequently, EPA is proposing to establish a tolerance in recodified 40 CFR 180.106(a) for sugarcane, molasses at 0.7 ppm.

Because adequate field trial data are not available for almonds, which is a representative commodity of the nut, tree, group 14, and based on available field trial data that showed diuron residues of concern in or on macadamia nuts, pecans, and walnuts were each <0.05 ppm, EPA determined that the nut group tolerance at 0.1 ppm should be revoked concomitant with the establishment of separate tolerances for hazelnuts (filberts) at 0.1 ppm, and macadamia nuts, pecans, and walnuts, each at 0.05 ppm. Consequently, after the nut group tolerance is revoked, diuron use on almonds, beech nuts, butternuts, Brazil nuts, cashews, chestnuts, and hickory nuts will no longer be covered. In the near future, the Agency is expecting to receive data, including crop field trial data on hazelnuts (filberts), from the registrants based on their responses to a Data Call-In, and if needed will address the hazelnut tolerance again in a future notice in the Federal Register. Therefore, the Agency is proposing in 40 CFR 180.106(a)(1) to revoke the tolerance on nut and establish tolerances on hazelnut at 0.1 ppm, and nut, macadamia; pecan; and walnut; each at 0.05 ppm in recodified 40 CFR 180.106(a).

In addition, EPA is proposing to revise commodity terminology to conform to current Agency practice in recodified 40 CFR 180.106(a) as follows: “grass crops (other than Bermuda grass)” to “grass, forage, except bermudagrass;” “grass, hay (other than Bermuda grass)” to “grass, hay, except bermudagrass;” and “sorghum, forage” to “sorghum, grain, forage.”

After active registrations are amended to restrict use of diuron on bananas to those grown in Hawaii, EPA expects to make it a regional tolerance and decrease the tolerance based on available field trial data. However, EPA is still in the process of addressing those active registrations. Therefore, the Agency will not propose to take action on the tolerance for diuron residues of concern on banana in 40 CFR 180.106 at this time, but will address it in a future publication in the Federal Register.

There are no Codex MRLs for diuron.

8. Ethoprop. Because there have been no active registrations for ethoprop use on peanuts since April 2002, EPA determined that the tolerances on peanut and peanut hay are no longer needed and should be revoked. Consequently, the Agency is proposing to revoke the tolerances in 40 CFR 180.262(a) on peanut and peanut, hay.

9. Etridiazole. Etridiazole, 5-ethoxy-3-(trichloromethyl)-1,2,4-thiadiazole, is registered for use on peanuts as a seed treatment. In a final rule published in the Federal Register on August 1, 2007 (72 FR 41913) (FRL-8139-5), the Agency announced that a tolerance should be established on peanut hay for etridiazole. Based on available metabolism data that showed residues of etridiazole per se were non-detectable and the monoacid metabolite showed residues as high as 0.033 ppm in or on cotton, soybean, and wheat grown from seed, the Agency determined that the combined residues of concern for etridiazole in or on commodities grown from etridiazole treated seed would not be expected to exceed 0.04 ppm, and therefore a tolerance on peanut hay should be established at the combined LOQ (0.1 ppm). Consequently, EPA is proposing to establish a tolerance for residues of etridiazole and its monoacid metabolite, 3-carboxy-5-ethoxy-1,2,4-thiadiazole, in 40 CFR 180.370(a) on peanut, hay at 0.1 ppm. For a detailed discussion of the Agency's rationale on the establishment of the peanut hay tolerance, refer to the final rule published in the Federal Register of August 1, 2007.

There are no Codex MRLs for etridiazole.

10. Fenitrothion. Currently, a tolerance for fenitrothion in 40 CFR 180.540(a) is established for combined residues of fenitrothion, O,O-dimethyl O-(4-nitrom-tolyl) phosphorothioate and its metabolites, O,O-dimethyl O-(4-nitro-m-tolyl) phosphate and 3-methyl-4-nitrophenol. Based on available field trial data, EPA determined that finite residues of the metabolite O,O-dimethyl O-(4-nitro-m-tolyl) phosphate are not expected in or on wheat grain or in wheat gluten resulting from the postharvest use of fenitrothion on stored wheat in Australia, and therefore that metabolite no longer needs to be included in the tolerance expression. Also, because the metabolite 3-methyl-4-nitrophenol is not determined to be a cholinesterase-inhibiting metabolite, the Agency determined that the metabolite 3-methyl-4-nitrophenol no longer needs to be included in the tolerance expression. Consequently, the Agency determined that residues of concern for enforcement purposes should include only the parent compound. Therefore, EPA is proposing to revise the tolerance expression in 40 CFR 180.540(a) as follows:

A tolerance is established for residues of the insecticide fenitrothion, O,O-dimethyl O-(4-nitro-m-tolyl) phosphorothioate, from the postharvest application of the insecticide to stored wheat in Australia, in or on the following food commodity.

Based on available Australian field trial data that showed fenitrothion residues as high as 2.5 ppm in or on wheat gluten, EPA determined that the tolerance on wheat gluten should be decreased from 30 to 3 ppm. Therefore, the Agency is proposing in 40 CFR 180.540(a) to decrease the tolerance on wheat gluten to 3.0 ppm.

11. Malathion. Flax straw, lespedeza seed and straw, and vetch seed and straw are no longer considered by the Agency to be significant animal feed items as delineated in “Table 1.—Raw Agricultural and Processed Commodities and Feedstuffs Derived from Crops,” which is found in Residue Chemistry Test Guidelines OPPTS 860.1000 dated August 1996, available at http://www.epa.gov/opptsfrs/publications/OPPTS_Harmonized/860_Residue_Chemistry_Test_Guidelines/Series, EPA determined that the tolerances are no longer needed and therefore should be revoked. Consequently, EPA is proposing to revoke the tolerances in 40 CFR 180.111(a)(1) on flax, straw; lespedeza, seed; lespedeza, straw; vetch, seed; and vetch, straw.

There are no Codex MRLs for malathion on the commodities mentioned above.

12. Metaldehyde. The Agency has conducted human health and ecological risk assessments based on its review of the database supporting the uses of metaldehyde. The toxicological profile and endpoints, exposure assessment, FQPA Safety Factor, aggregate exposure and risk, and cumulative risk are discussed in the metaldehyde RED and HED Chapter of the RED, which are both available, along with related supporting documents, in the docket associated with metaldehyde as identified in Unit II.A. The dietary exposure assessment for metaldehyde is available in the docket of this proposed rule.

The dietary risk assessment is a function of both exposure and toxicity. In the case of metaldehydye, dietary risk is expressed as a percentage of a level of concern. The level of concern is the dose predicted to result in no unreasonable adverse health effects to any human population subgroup, including sensitive members of such population subgroups. This level of concern is referred to as the population adjusted dose (PAD). Risk estimates less than 100% of the PAD are below EPA's level of concern. The acute PAD (aPAD) is the highest predicted dose to which a person could be exposed on any given day with no adverse health effect expected. The chronic PAD (cPAD) is the highest predicted dose to which a person could be exposed over the course of a lifetime with no adverse health effects expected. There are no dietary risks of concern for metaldehyde. For the general population and all subpopulations, acute dietary risk estimates are below 100% of the aPAD and chronic dietary risk estimates are below 100% of the cPAD. Dietary risk estimates are provided for the general U.S. population and various population subgroups. This assessment showed that at the 95th percentile of exposure, the acute risk estimates are below the Agency's level of concern (<100% of the aPAD) for the general U.S. population (11% of the aPAD) and all population subgroups (<25% of the aPAD). The highest exposed population subgroup was children 1 to 2 years old. Tolerance level residues and 100% crop treated (PCT) were also used to determine the chronic dietary exposure and risk estimates. This assessment showed that for all included commodities, the chronic risk estimates were below the Agency's level of concern (<100% of the cPAD) for the general U.S. population (22% of the cPAD) and all population subgroups (<49% cPAD). The highest exposed population subgroup was children 1 to 2 years old. Aggregated risks from dietary and residential exposures are below the Agency's levels of concern.

The Agency has reassessed the one existing tolerance for metaldehyde, and found a reasonable certainty of no harm to the U.S. population and all population subgroups from the use of metaldehyde. Prior to the RED, in the Federal Register of April 26, 2006 (71 FR 24692)(FRL-8062-5), EPA published a notice of filing of a pesticide petition submitted by a registrant for the establishment of a regulation for residues of metaldehyde in or on various food commodities, including representatives for the brassica (cole) leafy crop group, citrus crop group, lettuce, tomato, and strawberries. In the July 2006 RED and April 2006 HED Chapter of the RED, the Agency identified new tolerances (whose uses as well as strawberry were included in the dietary risk assessment) that are needed for metaldehyde, including ones for commodities mentioned in the notice of April 2006. The Interregional Research Project Number 4 (IR-4) program of the U.S. Department of Agriculture, which develops residue data for minor and specialty crops, has done research on a number of additional uses for metaldehyde. In the Federal Register of January 23, 2008 (73 FR 3964)(FRL-8345-7), EPA published a notice of filing of a number of pesticide petitions including one submitted by IR-4 for the establishment of a regulation for residues of metaldehyde in or on various food commodities, including representatives for the berry crop group, artichoke, and prickly pear cactus.

Currently, in 40 CFR 180.523, there are prescribed conditions in the introductory text and in paragraphs (a)(1), (2), and (3). Because the Agency now believes that all treatment parameters should be on the label only, the tolerance expression in 40 CFR 180.523 which states that “metaldehyde may be safely used as a preharvest spray or dust on strawberry to control slugs and snails, in accordance with the following prescribed conditions” should be modified by removing the prescribed conditions while continuing to limit the tolerance to use on strawberries. Therefore, EPA is proposing to revise the tolerance expression in 40 CFR 180.523(a) as follows:

Tolerances are established for residues of the molluscicide metaldehyde in or on food commodities, as follows.

In addition, the Agency believes that 40 CFR 180.523(a)(1), (2), and (3) should be removed because all treatment parameters should be on the label only. Therefore, in 40 CFR 180.523, EPA is proposing to delete current paragraphs (a)(1), (2), and (3), and replace them with a new paragraph (a) and include a table for the tolerances described below.

Based on available field trial data that showed metaldehyde residues as high as 2.42 ppm in or on strawberries, EPA determined that the existing tolerance on strawberry should be increased from 0 to 6.25 ppm. Therefore, the Agency is proposing in 40 CFR 180.523(a) to increase the tolerance on strawberry to 6.25 ppm. The Agency determined that the increased tolerance is safe; i.e., there is a reasonable certainty that no harm will result from aggregate exposure to the pesticide chemical residue.

Based on available field trial data that showed metaldehyde residues in or on lemons below the limit of quantitation (LOQ) of 0.05 ppm, grapefruit as high as 0.081 ppm and oranges as high as 0.103 ppm, EPA determined that a tolerance on the citrus fruit crop group should be established at 0.26 ppm. Consequently, the Agency is proposing in 40 CFR 180.523(a) to establish a tolerance on fruit, citrus, group 10 at 0.26 ppm.

Based on available field trial data that showed metaldehyde residues in or on head lettuce as high as 0.09 ppm and leaf lettuce as high as 0.691 ppm, EPA determined that a tolerance on lettuce should be established at 1.73 ppm. Therefore, the Agency is proposing in 40 CFR 180.523(a) to establish a tolerance on lettuce at 1.73 ppm.

Based on available field trial data that showed metaldehyde residues in or on tomato as high as 0.096 ppm, artichokes below the LOQ of 0.05 ppm, and watercress as high as 1.28 ppm, EPA determined that tolerances on tomato, artichokes, and watercress should be established at 0.24 ppm, 0.07 ppm, and 3.2 ppm, respectively. Consequently, the Agency is proposing in 40 CFR 180.523(a) to establish tolerances on tomato at 0.24 ppm; artichoke, globe at 0.07 ppm; and watercress at 3.2 ppm.

Based on available field trial data that showed metaldehyde residues in or on mustard greens, cabbage, and broccoli as high as 0.561 ppm, 0.59 ppm, and 1.0 ppm, respectively, EPA determined that a tolerance on the brassica (cole) leafy crop group should be established at 2.5 ppm. Therefore, the Agency is proposing in 40 CFR 180.523(a) to establish a tolerance on vegetable, brassica, leafy, group 5 at 2.5 ppm.

Based on available field trial data that showed metaldehyde residues in or on cactus fruit were below the LOQ of 0.05 ppm and cactus pads (three of four samples were below the LOQ) with one sample at 0.05 ppm, EPA determined that a tolerance on cactus should be established at 0.07 ppm. Therefore, the Agency is proposing in 40 CFR 180.523(a) to establish a tolerance on cactus at 0.07 ppm.

Based on available field trial data that showed metaldehyde residues in or on blueberries below the LOQ of 0.05 ppm and raspberries as high as 0.06 ppm, EPA determined that a tolerance on the berries crop group should be established at 0.15 ppm. Therefore, the Agency is proposing in 40 CFR 180.523(a) to establish a tolerance on berry group 13 at 0.15 ppm.

There are no Codex MRLs for metaldehyde.

13. Methyl parathion. In the Federal Register notice of November 7, 2007 (72 FR 62850) (FRL-8155-9), EPA issued a notice regarding EPA's announcement on the receipt of requests from registrants to voluntarily cancel and/or amend certain registrations for methyl parathion and delete the last cabbage, hops, lentils, pecans, dried bean, dried peas, and sugar beet uses from methyl parathion registrations. EPA approved the use deletions, including the last uses for methyl parathion on cabbage, hops, lentils, pecans, dried beans, dried peas, and sugar beets with the close of the 30-day comment period, made them effective on January 24, 2008, and permitted persons other than the registrant to sell, distribute, and conforming to the EPA-approved label and labeling of the products, use existing methyl parathion pesticide stocks on cabbage, hops, lentils, pecans, dried beans, dried peas, and sugar beets until exhaustion. The Agency believes that end users will have had sufficient time to exhaust those existing stocks and for treated cabbage, hops, lentils, pecans, dried beans, dried peas, and sugar beet commodities to have cleared the channels of trade by January 24, 2009. (Note, the use of methyl parathion on lentils is currently covered by the tolerance in 40 CFR 180.121 on pea, dry, seed according to 40 CFR 180.1(g)). Therefore, EPA is proposing to revoke the tolerances in 40 CFR 180.121(a) on cabbage; hop; pecan; bean, dry, seed; pea, dry, seed; beet, sugar, roots; and beet, sugar, tops; each with an expiration/revocation date of January 24, 2009.

In addition, EPA is proposing to revise commodity terminology to conform to current Agency practice as follows: in 40 CFR 180.121(a), “corn, forage” to “corn, field, forage” and “corn, sweet, forage;” “hop” to “hop, dried cones;” and “soybean” to “soybean, seed.”

There are Codex MRLs for residues of parathion-methyl on a number of commodities, including dry beans, dry peas, and sugar beets.

14. Nicotine-containing compounds. Because the tolerances expired on December 4, 2005, EPA is proposing to remove 40 CFR 180.167 in its entirety.

15. Ortho-phenylphenol and Sodium ortho-phenylphenate. Currently, there are active U.S. registrations for use of sodium ortho-phenylphenate (sodium o-phenylphenate) on citrus (which includes use on grapefruit, kumquat, lime, and tangerine). Because the existing tolerance in 40 CFR 180.129 on citrus at 10 ppm includes coverage of combined residues of o-phenylphenol and sodium o-phenylphenate on grapefruit, kumquat, lime, and tangerine, the Agency determined that their separate tolerances (each at 10 ppm) are no longer needed, and therefore should be revoked. Consequently, EPA is proposing to revoke the individual tolerances in 40 CFR 180.129 on grapefruit, kumquat, lime, and tangerine.

Because there are no active U.S. registrations for use of either o-phenylphenol or sodium o-phenylphenate on melon citron and kiwifruit, since 1988 and 1993, respectively, the Agency determined that their tolerances are no longer needed, and therefore should be revoked. Consequently, EPA is proposing to revoke the tolerances in 40 CFR 180.129 on citron and kiwifruit.

Also, in accordance with current Agency practice, EPA is proposing to revise 40 CFR 180.129 by designating general tolerances as paragraph (a), adding separate paragraphs (b), (c), and (d), and reserving those sections for tolerances with section 18 emergency exemptions, regional registrations, and indirect or inadvertent residues, respectively, and to revise commodity terminology to conform to current Agency practice in 40 CFR 180.129(a) for “citrus” to “citrus fruits,” and “orange, sweet” to “orange.”

There are Codex MRLs for ortho-phenylphenol or its sodium salt.

16. Oxamyl. Based on available processing data that showed combined residues of oxamyl and its oxime metabolite methyl N,N-dimethyl-N-hydroxy-1-thiooxamimidate calculated as oxamyl concentrated by a factor of 1.8x (where combined residues in or on treated pineapple and pineapple wet skins were as high as 0.1 ppm and 0.18 ppm, respectively), EPA expected residues of 1.8 ppm, and the Agency determined that the tolerance on pineapple, bran should be decreased from 6.0 to 2.0 ppm. Further, the current tolerance expression in 40 CFR 180.303(a)(2) is for residues of oxamyl per se. However, the processing data reflects the combined residues of oxamyl and its metabolite and therefore the Agency determined that the tolerance expression under § 180.303(a)(2) was no longer needed and the tolerance there should be moved under the current tolerance expression for § 180.303(a)(1), along with the correct “methyl” name for the metabolite. Therefore, EPA is proposing to recodify 40 CFR 180.303(a)(1) to (a), move the tolerance on pineapple, bran from 40 CFR 180.303(a)(2) to (a), decrease the tolerance on pineapple, bran to 2.0 ppm, revise the tolerance nomenclature from “pineapple, bran” to “pineapple, process residue,” and correct the oxamyl metabolite name in § 180.303(a) to methyl N,N-dimethyl-N-hydroxy-1-thiooxamimidate.

Because the commodity tolerance terminology in 40 CFR 180.303(a) for “vegetable, root” at 0.1 ppm is an obsolete crop group (which also covers such commodities as carrot, bulb onion, bulb garlic, and potato) and many commodities formerly associated with it no longer have active registrations, the Agency determined that it should be revoked concomitantly with the establishment of a subgroup tolerance on vegetable, tuberous and corm, subgroup 1C at 0.1 ppm, an individual tolerance for carrot at 0.1 ppm, and based on available data showing oxamyl residues of concern on bulb onion as high as 0.18 ppm with a 14-day PHI and translation of bulb onion data to bulb garlic (with a 14-day PHI), individual tolerances on onion, bulb and garlic, bulb, each at 0.2 ppm. Therefore, EPA is proposing in newly recodified 40 CFR 180.303(a) to revoke the tolerance on vegetable, root and establish tolerances on vegetable, tuberous and corm, subgroup 1C at 0.1 ppm; carrot at 0.1 ppm; onion, bulb at 0.2 ppm; and garlic, bulb at 0.2 ppm. Also, because the subgroup 1C includes potato, the Agency determined that the existing individual tolerance on potato at 0.1 ppm is no longer needed, and therefore should be revoked. Consequently, EPA is proposing to revoke the tolerance in newly recodified 40 CFR 180.303(a) on potato.

Based on available field trial data that showed combined oxamyl residues of concern in or on peanut nutmeat as high as 0.12 ppm when oxamyl was applied up to 2.2x the maximum rate per application, and a current Codex MRL for combined oxamyl residues in or on peanuts at 0.05 mg/kg (at the time of the RED the MRL was 0.1 mg/kg), the Agency calculated that at 1x the application rate the combined oxamyl residues of concern on peanut nutmeat are expected at 0.05 ppm and therefore, determined that the tolerance should be decreased from 0.2 to 0.05 ppm (which is less than the 0.1 ppm recommended in the RED due to a Codex MRL level of 0.1 mg/kg at that time) to harmonize with Codex as the dietary exposure and risk are not of concern. Therefore, EPA is proposing to decrease the tolerance in newly recodified 40 CFR 180.303(a) on peanut to 0.05 ppm.

Based on available field trial data that showed combined oxamyl residues of concern in or on bell peppers do not exceed 2.0 ppm, and a current Codex MRL for combined oxamyl residues in or on sweet peppers at 2.0 mg/kg, the Agency determined that the tolerance should be decreased from 3.0 to 2.0 ppm to harmonize with Codex as the dietary exposure and risk are not of concern. Therefore, EPA is proposing to decrease the tolerance in newly recodified 40 CFR 180.303(a) on pepper, bell to 2.0 ppm.

Based on available field trial data that showed combined oxamyl residues of concern as high as 0.058 ppm in or on soybeans and <0.2 ppm in or on winter squash, the Agency determined that the tolerances should be decreased from 0.2 to 0.1 ppm and 2.0 to 0.2 ppm, respectively, and that because the winter squash data could be translated to pumpkins based on similar use patterns, the tolerance on pumpkin should be decreased from 2.0 to 0.2 ppm. Therefore, EPA is proposing to decrease the tolerances in newly recodified 40 CFR 180.303(a) on soybean to 0.1 ppm and revise the terminology to soybean, seed; squash, winter to 0.2 ppm; and pumpkin to 0.2 ppm.

Although the oxamyl RED stated that the tolerance in § 180.303(a) on celery should be increased from 3.0 to 10.0 ppm to reflect a 14-day PHI, prior to the RED, the Agency reviewed a comment from a registrant and determined that residues on celery did not exceed the established tolerance of 3 ppm based on data that reflected a 21-day PHI, and therefore because registrations for celery reflect a 21-day PHI, the current tolerance of 3 ppm would be appropriate. (The Agency's June 1999 document which reviewed celery residue data will be made available in the docket of this proposed rule). However, the same registrant recently requested that the Agency proceed to increase the tolerance for oxamyl on celery from 3.0 to 10.0 ppm based on data that reflected a 14-day PHI and agreed to apply for changing the PHI to 14 days. Therefore, the Agency is proposing to increase the tolerance in § 180.303(a) on celery to 10.0 ppm. The Agency determined that the increased tolerance is safe; i.e., there is a reasonable certainty that no harm will result from aggregate exposure to the pesticide chemical residue.

In addition, EPA is proposing to revise commodity terminology to conform to current Agency practice in newly recodified 40 CFR 180.303(a) from “fruit, citrus” to “fruit, citrus, group 10.”

17. Oxyfluorfen. While active oxyfluorfen registrations for fallow-land use with a rotation to popcorn exist, due to a 10 month plant-back interval, the Agency determined that a tolerance is not needed. Because there are no other active registrations for oxyfluorfen use on popcorn which require a tolerance, the Agency determined that the tolerance in 40 CFR 180.381(a) for residues of oxyfluorfen in or on popcorn grain is no longer needed and should be revoked. Therefore, EPA is proposing to revoke the tolerance in 40 CFR 180.381(a) on corn, pop, grain.

18. Paraquat. In the final rule published on August 1, 2007 (72 FR 41913), the Agency announced that duplicate tolerances for paraquat were inadvertently created on September 6, 2006 (71 FR 52487), when the Agency established and revised certain tolerances for paraquat in 40 CFR 180.205, and that the duplicate tolerances are not needed and would be addressed in a future publication in the Federal Register. Currently, the individual tolerances at 0.05 ppm on cucurbits; nut; and bean, snap, succulent are covered by the tolerances at 0.05 ppm on vegetable, cucurbit, group 9; nut, tree, group 14; and vegetable, legume, edible podded, subgroup 6A; respectively. Also, the individual tolerances at 0.05 ppm on bean, lima, succulent and pea, succulent are covered by the subgroup tolerance on pea and bean, succulent shelled, subgroup 6B at 0.05 ppm. In addition, the individual tolerances at 0.3 ppm on bean, dry, seed and pea, dry, seed are covered by the subgroup tolerance on pea and bean, dried shelled, except soybean, subgroup 6C, except guar bean at 0.3 ppm. Because paraquat residues are covered by existing group or subgroup tolerances, the aforementioned individual tolerances are no longer needed, and therefore should be revoked. Consequently, EPA is proposing to revoke the individual tolerances for paraquat in 40 CFR 180.205(a) on bean, dry, seed; bean, lima, succulent; bean, snap, succulent; pea, dry, seed; pea, succulent; cucurbits, and nut.

19. Propargite. In a final rule published on August 1, 2007 (72 FR 41913), the Agency's response to a comment included an acknowledgement that the 100 mg/kg MRL on dried hops for propargite, established by Codex, is appropriate, and therefore the U.S. tolerance should be increased from 30.0 to 100.0 ppm. Therefore, EPA is proposing to increase the tolerance for propargite in 40 CFR 180.259(a) on hop, dried cones to 100.0 ppm. For a detailed discussion of the Agency's rationale on the modification of the dried hops tolerance, refer to the final rule published in the Federal Register of August 1, 2007. The Agency determined that the increased tolerance is safe; i.e., there is a reasonable certainty that no harm will result from aggregate exposure to the pesticide chemical residue.

Also, in the final rule published on August 1, 2007 (72 FR 41913), the Agency announced that the appropriate basis to revoke the tolerance on peanut hay for propargite is that registration labels prohibit the feeding of propargite-treated peanut hay to livestock, and therefore the tolerance is no longer needed, and would be addressed in a future publication in the Federal Register. Therefore, EPA is proposing to revoke the tolerance for propargite in 40 CFR 180.259(a) on peanut, hay. In addition, EPA is proposing to revise commodity terminology to conform to current Agency practice in 40 CFR 180.259(a) for “corn, stover” to “corn, field, stover,” “corn, pop, stover,” and “corn, sweet, stover.”

20. Propylene oxide. In the Federal Register notice of October 18, 2006 (71 FR 61463) (FRL-8099-5), EPA issued a technical correction which stated that the terms of the May 24, 2006 Federal Register notice (71 FR 29957) (FRL-8068-4) are controlling regarding EPA's announcement on the receipt of a registrant's request to voluntarily amend certain propylene oxide registrations and delete the last edible gum uses from propylene oxide registrations. EPA approved the edible gum use deletions with the close of the 30-day comment period, made them effective on June 23, 2006, and permitted the registrant to sell and distribute existing stocks for 1 year; i.e., until April 20, 2007. The Agency believes that end users have had sufficient time to exhaust those existing stocks and for treated edible gum commodities to have cleared the channels of trade. Therefore, EPA is proposing in 40 CFR 180.491(a)(1) to revoke the tolerance on gum, edible.

Based on available data that showed residues of propylene oxide as high as <137.0 ppm in or on cacao bean powder, EPA determined that the data could be translated to support the use on the bean (expected residues would be less on the dried cacao bean than powder due to vast surface area differences) and the cacao bean tolerance should be decreased from 300 to 200 ppm, and a tolerance should be established on cacao bean, cocoa powder at 200 ppm. Therefore, the Agency is proposing in 40 CFR 180.491(a)(1) to revise the commodity terminology from cocoa bean, bean to cacao bean, dried bean and decrease the tolerance to 200 ppm, and establish a tolerance on cacao bean, cocoa powder at 200 ppm.

Based on available data that showed residues of propylene oxide as high as <164.0 ppm in or on dried basil and translation of that data to dried garlic and onion, EPA determined that tolerances should be established on dried garlic and dried onion, each at 300 ppm. Therefore, the Agency is proposing in 40 CFR 180.491(a)(1) to establish tolerances on garlic, dried at 300 ppm and onion, dried at 300 ppm.

In addition, EPA is proposing to revise commodity terminology in 40 CFR 180.491(a)(1) to conform to current Agency practice as follows: “nutmeat, processed, except peanuts” to “nut, tree, group 14” and “spices, processed” to “herbs and spices, group 19, dried.”

Because residues of propylene chlorohydrin are formed upon postharvest fumigation of cacao bean, dried spices and vegetables, and nutmeats (except peanut), EPA determined that certain tolerances should be established not only for propylene oxide in 40 CFR 180.491(a)(1), as described in this document, but also for propylene chlorohydrin in 40 CFR 180.491(a)(2). There are existing tolerances in 40 CFR 180.491(a)(2) for propylene chlorohydrin on fig; grape, raisin; and plum, prune, dried. The Agency determined that these new tolerances are safe; i.e., there is a reasonable certainty that no harm will result from aggregate exposure to the pesticide chemical residue.

Based on available data that showed residues of propylene chlorohydrin (the reaction product of propylene oxide) as high as <20.0 ppm in or on cocoa powder and expected by the Agency in or on cacao bean at <13 ppm, EPA determined that tolerances for propylene chlorohydrin (from use of propylene oxide as a postharvest fumigant) should be established on each at 20.0 ppm. Therefore, the Agency is proposing in 40 CFR 180.491(a)(2) to establish tolerances on cacao bean, dried bean at 20.0 ppm and cacao bean, cocoa powder at 20.0 ppm.

Based on available data that showed residues of propylene chlorohydrin as high as <6,000 ppm and <1,500 ppm in or on dried basil and spice, respectively, and translation of data for dried basil to dried garlic and onion, EPA determined that tolerances for propylene chlorohydrin (from use of propylene oxide as a postharvest fumigant) should be established on dried basil, dried garlic, and dried onion at 6,000 ppm and herbs and spices, group 19, dried, except basil at 1,500 ppm. Therefore, the Agency is proposing in 40 CFR 180.491(a)(2) to establish tolerances at 6,000 ppm on basil, dried leaves; garlic, dried; and onion, dried; and at 1,500 ppm on herbs and spices, group 19, dried, except basil.

Based on available data that showed residues of propylene chlorohydrin as high as <6 ppm in or on almond, pecan, and walnut, EPA determined that a tolerance for propylene chlorohydrin (from use of propylene oxide as a postharvest fumigant) should be established on the tree nut group at 10.0 ppm. Therefore, the Agency is proposing in 40 CFR 180.491(a)(2) to establish a tolerance on nut, tree, group 14 at 10.0 ppm.

There are no Codex MRLs for propylene oxide or propylene chlorohydrin.

21. Streptomycin. Based on available field trial data for succulent and dry beans grown from treated seeds that showed streptomycin residues were non-detectable and a limit of detection (LOD) of 0.45 ppm, the Agency determined that tolerances should be established for dry and succulent beans, each at 0.5 ppm. Therefore, the Agency is proposing in 40 CFR 180.245(a)(1) to establish tolerances on bean, dry, seed and bean, succulent, each at 0.5 ppm.

In addition, EPA is proposing to revise commodity terminology to conform to current Agency practice in 40 CFR 180.245(a)(1) from “fruit, pome” to “fruit, pome, group 11.”

There are no Codex MRLs for streptomycin.

22. Triadimefon. Currently, tolerances for triadimefon are established in 40 CFR 180.410(a) for residues of triadimefon and its metabolites containing chlorophenoxy and triazole moieties (expressed as the parent compound). However, the Agency determined that residues of concern for tolerance expression for all raw agricultural commodities are triadimefon and triadimenol. Therefore, EPA is proposing to revise the introductory text of 40 CFR 180.410(a) as follows:

Tolerances are established for the combined residues of the fungicide triadimefon, 1-(4-chlorophenoxy)-3,3-dimethyl-1-(1H-1,2,4-triazol-1-yl)-2-butanone and triadimenol, β-(4-chlorophenoxy)-α-(1,1-dimethylethyl)-1H-1,2,4-triazole-1-ethanol, expressed as triadimefon, in or on the following food commodities.

Based on available ruminant exaggerated feeding data at 125x MTDB of triadimefon that show highest residues were in kidney (at 0.412 ppm in kidney), EPA calculated that the maximum expected residues in kidney at 1x MTDB is 0.0016 ppm, which is below the livestock method LOD of 0.01 ppm. Therefore, EPA determined that there is no reasonable expectation of finite triadimefon residues of concern in milk and tissues of cattle, goats, horses and sheep, and that their tolerances are no longer needed under 40 CFR 180.6(a)(3). In addition, with the exception of wet apple pomace, there are no active registered feed item uses of triadimefon for cattle, goat, horse, and sheep. Further, the registrant has requested voluntary deletion of specific triadimefon uses including apple, and in the Federal Register of April 16, 2008 (73 FR 20640)(FRL-8361-1) the Agency published a notice of receipt of request for voluntary cancellation of the last active registration for use of triadimefon on apples, grapes, pears, and raspberries. In that notice, the Agency provides a public comment period of 30-days and states that because the registrant has provided information that it is not likely that any existing stocks are out in the channels of trade, the Agency does not believe that there is a need to permit the registrant to sell or distribute existing stocks and does not believe that there is a need for other persons to sell and/or use existing stocks. Therefore, the Agency determined that the last day for end use of that product will be the date of publication of the cancellation order in the Federal Register. Consequently, the Agency is proposing to revoke the tolerances in 40 CFR 180.410(a) on cattle, fat; cattle, meat; cattle, meat byproducts; goat, fat; goat, meat; goat, meat byproducts; horse, fat; horse, meat; horse, meat byproducts; sheep, fat; sheep, meat; sheep, meat byproducts; and milk. In addition, the Agency is proposing to revoke the tolerances in 40 CFR 180.410(a) on apple; apple, wet pomace; grape; and pear; and in § 180.410(c) the regional tolerance on raspberry and reserve that section for tolerances with regional registrations.

Because there are no active registered uses of triadimefon on any poultry or swine feed items, EPA determined that there is no reasonable expectation of finite triadimefon residues of concern in or on eggs, and tissues of poultry and hogs, and that their tolerances are no longer needed under 40 CFR 180.6(a)(3). Consequently, the Agency is proposing to revoke the tolerances in 40 CFR 180.410 on hog, fat; hog, meat; hog, meat byproducts; poultry, fat; poultry, meat; poultry, meat byproducts; and egg.

The tolerances in 40 CFR 180.410(a) on apple, dry pomace, grape pomace (wet and dry), and grape, raisin, waste should be revoked because the Agency considers these commodities to no longer be significant livestock feed items, and therefore the tolerances are no longer needed. Consequently, EPA is proposing to revoke the tolerances in 40 CFR 180.410(a) on apple, dry pomace; grape pomace (wet and dry); and grape, raisin, waste.

Because there have been no active registered uses of triadimefon on barley, sugar beets, chickpeas, grasses, nectarines, and wheat for at least 10 years, and cucurbits since July 1999, the Agency determined that their tolerances are no longer needed and should be revoked. Therefore, EPA is proposing to revoke the tolerances in 40 CFR 180.410 on barley, milled fractions (except flour); beet, sugar, roots; beet, sugar, tops; chickpea, seed; cucurbits; grass, forage; grass, seed screenings; grass, straw, grown for seed; nectarine; wheat, forage; wheat, grain; wheat, milled fractions (except flour); and wheat, straw.

Based on available data that showed combined triadimefon residues of concern as high as 8.1 ppm in or on treated pineapple peel and 0.18 ppm in or on treated pineapple pulp, EPA calculated that the maximum expected residue in or on whole pineapple is 1.82 ppm. Therefore, EPA determined that the tolerances on fresh pineapple should each be decreased from 3.0 to 2.0 ppm. In addition, this level harmonizes with the Codex MRL for pineapple at 2 mg/kg. Consequently, the Agency is proposing to decrease the tolerance in 40 CFR 180.410(a) on pineapple, fresh to 2.0 ppm and revise the commodity terminology to “pineapple.”

Because there will be no shared tolerances for triadimefon with those for triadimenol in 40 CFR 180.450, § 180.3(d)(13), which states that the total amount of residues for triadimefon, triadimenol, and a butanediol metabolite shall not yield more residue than that permitted by the higher of the two tolerances, is no longer needed and therefore 40 CFR 180.3(d)(13) should be removed. Consequently, EPA is proposing to remove the current 40 CFR 180.3(d)(13) and redesignate current 40 CFR 180.3(d)(14) as 40 CFR 180.3(d)(13).

Currently, there are Codex MRLs for triadimefon on eggs, meat (from mammals other than marine mammals), milks, pineapple, poultry meat, sugar beets, wheat, and wheat straw.

23. Triadimenol. Based on available ruminant exaggerated feeding data at 189x MTDB of triadimenol that show highest combined triadimenol residues of concern were in kidney and there at 0.206 ppm (residues were lower in milk, muscle, liver, and fat), EPA calculated that the maximum expected residues in kidney at 1x MTDB is 0.0011 ppm, which is below the livestock method LOQ of 0.05 ppm and LOD of 0.01 ppm. Therefore, because residues in milk and tissues were expected to be less than the LOQ, EPA determined that there is no reasonable expectation of detecting finite residues of triadimenol residues of concern in milk and tissues of cattle, goats, horses and sheep and these tolerances are no longer needed under 40 CFR 180.6(a)(3). Consequently, the Agency is proposing to revoke the tolerances in 40 CFR 180.450(b) on cattle, fat; cattle, meat; cattle, meat byproducts; goat, fat; goat, meat; goat, meat byproducts; horse, fat; horse, meat; horse, meat byproducts; sheep, fat; sheep, meat; sheep, meat byproducts; and milk.

Based on available ruminant exaggerated feeding data and a 272x MTDB of triadimenol for swine, EPA calculated that the maximum expected residues in kidney at 10x MTDB is 0.0076 ppm, which is below the livestock method LOQ of 0.05 ppm and LOD of 0.01 ppm. Therefore, EPA determined that there is no reasonable expectation of detecting finite residues of triadimenol residues of concern in tissues of hogs and these tolerances are no longer needed under 40 CFR 180.6(a)(3). Consequently, the Agency is proposing to revoke the tolerances in 40 CFR 180.450(b) on hog, fat; hog, meat; and hog, meat byproducts.

Based on available poultry exaggerated feeding data and a 2720x MTDB of triadimenol that show highest combined triadimenol residues of concern were in liver and there at 0.703 ppm (residues were lower in egg, muscle, and fat), EPA calculated that the maximum expected residues in liver at 1x MTDB is 0.00026 ppm, which is below the livestock method LOQ of 0.05 ppm and LOD of 0.01 ppm. Therefore, because residues in eggs and tissues were expected to be less than the LOQ, EPA determined that there is no reasonable expectation of detecting finite residues of triadimenol residues of concern in eggs and tissues of poultry and these tolerances are no longer needed under 40 CFR 180.6(a)(3). Consequently, the Agency is proposing to revoke the tolerances in 40 CFR 180.450(b) on poultry, fat; poultry, meat; poultry, meat byproducts; and egg.

Because cotton forage is no longer considered by the Agency to be significant livestock feed items as delineated in “Table 1. —Raw Agricultural and Processed Commodities and Feedstuffs Derived from Crops,” which is found in Residue Chemistry Test Guidelines OPPTS 860.1000 dated August 1996 (available at http://www.epa.gov/opptsfrs/publications/OPPTS_Harmonized/860_Residue_Chemistry_Test_Guidelines/Series/), EPA determined that the tolerance is no longer needed, and therefore should be revoked. Consequently, EPA is proposing to revoke the tolerance in 40 CFR 180.450 on cotton, forage.

As a result of proposing that all the tolerances in 40 CFR 180.450 (b) are to be revoked and in order to conform to current Agency practice, EPA is proposing to revise 40 CFR 180.450 by removing existing paragraph (b) and redesignating and reserving paragraph (b) for section 18 emergency exemptions, adding and reserving paragraph (c) for tolerances with regional registrations, and adding and reserving paragraph (d) tolerances for indirect or inadvertent residues.

In addition, EPA is proposing to revise commodity terminology to conform to current Agency practice as follows: in 40 CFR 180.450(a), “corn, forage” to “corn, field, forage” and “corn, sweet, forage;” “corn, grain” to “corn, field, grain” and “corn, pop, grain;” and “corn, stover” to “corn, field, stover,” “corn, pop, stover;” and “corn, sweet, stover.”

EPA is not proposing to revoke sorghum tolerances for triadimenol at this time. The Agency is in the process of addressing one active registration and intends to address the tolerances in a future publication in the Federal Register.

There are Codex MRLs for triadimenol on commodities including meat (from mammals other than marine mammals), milks, eggs, and poultry meat.

24. Tridemorph. Tridemorph (2,6-dimethyl-4-tridecylmorpholine) is a fungicide used in Central and South America on bananas. There are no U.S. registrations for tridemorph. In the 2005 tridemorph TRED, EPA stated that the foreign residue data for tridemorph is adequate for tolerance reassessment purposes. Based on foreign field trial data that showed residues of tridemorph as high as 0.907 ppm in or on unbagged bananas, the Agency determined that the existing import tolerance should be increased from 0.1 to 1.0 ppm. Therefore, EPA is proposing to increase the import tolerance in 40 CFR 180.372 on bananas from 0.1 to 1.0 ppm. The Agency determined that the increased tolerance is safe; i.e., there is a reasonable certainty that no harm will result from aggregate exposure to the pesticide chemical residue.

There are no Codex MRLs for tridemorph.

25. Ziram. In a final rule published in the Federal Register of September 15, 2006 (71 FR 54423)(FRL-8077-9), included among tolerance actions for multiple active ingredients, EPA announced receipt of a comment from VJP Consulting, Inc. on behalf of Taminco, a member of the Ziram Task Force consortium, which expressed an interest in the retention of tolerances for ziram residues in or on onion and melon for import purposes. In its response, the Agency took no action on the ziram tolerances for onion and melon at that time. However, shortly after that time, Taminco informed the Agency that it will not support the tolerances for ziram residues in or on onion and melon for import purposes. Because there have been no active registrations for ziram use on onion since 1991 and on melon since 1995, and no longer interest in supporting them with data for import purposes, tolerances on onion and melon are no longer needed. Therefore, EPA is proposing to revoke the tolerances for residues of ziram, calculated as zinc ethylenebisdithiocarbamate, in 40 CFR 180.116(a) in or on onion and melon.

Also, because the tolerances expired on January 15, 2007, EPA is proposing to remove all the entries for garden beet roots and tops, cabbage, and cauliflower from 40 CFR 180.116(a).

Codex MRLs do exist for total dithiocarbamates on onion, bulb; onion, spring; melons, except watermelon; and watermelon, but are determined as carbon disulfide and apply to the use of individual or combinations of dithiocarbamates, including ziram. The U.S. tolerances on onion and melon for ziram in 40 CFR 180.116 are calculated as zinc ethylenebisdithiocarbamate.

B. What is the Agency's Authority for Taking this Action?

A “tolerance” represents the maximum level for residues of pesticide chemicals legally allowed in or on raw agricultural commodities and processed foods. Section 408 of FFDCA, 21 U.S.C. 346a, as amended by FQPA of 1996, Public Law 104-170, authorizes the establishment of tolerances, exemptions from tolerance requirements, modifications in tolerances, and revocation of tolerances for residues of pesticide chemicals in or on raw agricultural commodities and processed foods. Without a tolerance or exemption, food containing pesticide residues is considered to be unsafe and therefore “adulterated” under section 402(a) of FFDCA, 21 U.S.C. 342(a). Such food may not be distributed in interstate commerce (21 U.S.C. 331(a)). For a food-use pesticide to be sold and distributed, the pesticide must not only have appropriate tolerances under the FFDCA, but also must be registered under FIFRA (7 U.S.C. 136 et seq.). Food-use pesticides not registered in the United States must have tolerances in order for commodities treated with those pesticides to be imported into the United States.

EPA is proposing these tolerance actions to implement the tolerance recommendations made during the reregistration and tolerance reassessment processes (including follow-up on canceled or additional uses of pesticides). As part of these processes, EPA is required to determine whether each of the amended tolerances meets the safety standard of FQPA. The safety finding determination is discussed in detail in each post-FQPA RED and TRED for the active ingredient. REDs and TREDs recommend the implementation of certain tolerance actions, including modifications to reflect current use patterns, to meet safety findings, and change commodity names and groupings in accordance with new EPA policy. Printed and electronic copies of the REDs and TREDs are available as provided in Unit II.A.

EPA has issued post-FQPA REDs for aldicarb, ametryn, 2,4-DB, dicamba, dimethipin, disulfoton, diuron, ethoprop, etridiazole, fenitrothion, malathion, metaldehyde, methyl parathion, o-phenylphenol and its sodium salt, oxamyl, oxyfluorfen, paraquat, propargite, propylene oxide, triadimefon, and ziram, and TREDs for diuron, streptomycin, triadimenol, and tridimorph. REDs and TREDs contain the Agency's evaluation of the database for these pesticides, including requirements for additional data on the active ingredients to confirm the potential human health and environmental risk assessments associated with current product uses, and in REDs state conditions under which these uses and products will be eligible for reregistration. The REDs and TREDs recommended the establishment, modification, and/or revocation of specific tolerances. RED and TRED recommendations such as establishing or modifying tolerances, and in some cases revoking tolerances, are the result of assessment under the FFDCA standard of “reasonable certainty of no harm.” However, tolerance revocations recommended in REDs and TREDs that are proposed in this document do not need such assessment when the tolerances are no longer necessary.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of FFDCA, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

When EPA establishes tolerances for pesticide residues in or on raw agricultural commodities, consideration must be given to the possible residues of those chemicals in meat, milk, poultry, and/or eggs produced by animals that are fed agricultural products (for example, grain or hay) containing pesticides residues (40 CFR 180.6). When considering this possibility, EPA can conclude that:

1. Finite residues will exist in meat, milk, poultry, and/or eggs.

2. There is a reasonable expectation that finite residues will exist.

3. There is a reasonable expectation that finite residues will not exist. If there is no reasonable expectation of finite pesticide residues in or on meat, milk, poultry, or eggs, tolerances do not need to be established for these commodities (40 CFR 180.6(b) and (c)).

EPA has evaluated certain specific meat, milk, poultry, and egg tolerances proposed for revocation in this document and has concluded that there is no reasonable expectation of finite pesticide residues of concern in or on those commodities.

C. When Do These Actions Become Effective?

With the exception of specific tolerance revocations for dimethipin and methyl parathion for which EPA is proposing specific expiration/revocation dates, the Agency is proposing that these revocations, modifications, establishments of tolerances, and revisions of tolerance nomenclature become effective on the date of publication of the final rule in the Federal Register. With the exception of the proposed revocation of specific tolerances for dimethipin and methyl parathion, the Agency believes that existing stocks of pesticide products labeled for the uses associated with the tolerances proposed for revocation have been completely exhausted and that treated commodities have cleared the channels of trade. EPA is proposing expiration/revocation dates of May 31, 2010 and January 24, 2009 for the specific tolerances for dimethipin and methyl parathion, respectively. The Agency believes that this revocation date allows users to exhaust stocks and allows sufficient time for passage of treated commodities through the channels of trade. However, if EPA is presented with information that existing stocks would still be available and that information is verified, the Agency will consider extending the expiration date of the tolerance. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(1)(5), as established by FQPA. Under this unit, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from tolerance. Evidence to show that food was lawfully treated may include records that verify the dates when the pesticide was applied to such food.

III. Are the Proposed Actions Consistent with International Obligations?

The tolerance actions in this proposal are not discriminatory and are designed to ensure that both domestically produced and imported foods meet the food safety standards established by FFDCA. The same food safety standards apply to domestically produced and imported foods.

In making its tolerance decisions, EPA seeks to harmonize U.S. tolerances with international standards whenever possible, consistent with U.S. food safety standards and agricultural practices. EPA considers the international Maximum Residue Limits (MRLs) established by the Codex Alimentarius is a joint U.N. Food and Agriculture Organization/World Health Organization food standards program, and it is recognized as an international food safety standards-setting organization in trade agreements to which the United States is a party. EPA may establish a tolerance that is different from a Codex MRL; however, FFDCA section 408(b)(4) requires that EPA explain the reasons for departing from the Codex level in a notice published for public comment. EPA's effort to harmonize with Codex MRLs is summarized in the tolerance reassessment section of individual REDs and TREDs, and in the Residue Chemistry document which supports the RED and TRED, as mentioned in Unit II.A. Specific tolerance actions in this proposed rule and how they compare to Codex MRLs (if any) are discussed in Unit II.A.

IV. Statutory and Executive Order Reviews

EPA is proposing to establish tolerances under FFDCA section 408(e), and also modify and revoke specific tolerances established under FFDCA section 408. The Office of Management and Budget (OMB) has exempted these types of actions (e.g., establishment and modification of a tolerance and tolerance revocation for which extraordinary circumstances do not exist) from review under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020) (FRL-5753-1), respectively, and were provided to the Chief Counsel for Advocacy of the Small Business Administration. Taking into account this analysis, and available information concerning the pesticides listed in this proposed rule, the Agency hereby certifies that this proposed rule will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticide named in this proposed rule, the Agency knows of no extraordinary circumstances that exist as to the present proposal that would change the EPA's previous analysis. Any comments about the Agency's determination should be submitted to the EPA along with comments on the proposal, and will be addressed prior to issuing a final rule. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers, and food retailers, not States. This action does not alter the relationships or distribution of power and responsibilities established by Congress in the preemption provisions of section 408(n)(4) of FFDCA. For these same reasons, the Agency has determined that this proposed rule does not have any “tribal implications” as described in Executive Order 13175, entitled Consultation and Coordination with Indian Tribal Governments (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: May 22, 2008.
Debra Edwards,
Director, Office of Pesticide Programs.

Therefore, it is proposed that 40 CFR chapter I be amended as follows:

PART 180—[AMENDED]

1. The authority citation for part 180 continues to read as follows:

Authority: 21 U.S.C. 321(q), 346a and 371.

§ 180.3 [Amended]

2. Section 180.3 is amended by removing paragraph (d)(13) and redesignating paragraph (d)(14) as (d)(13).

3. Section 180.106 is amended by revising paragraph (a) and the tables in paragraphs (b) and (c), to read as follows:

§ 180.106 Diuron; tolerances for residues

(a) General. Tolerances are established for the combined residues of the herbicide diuron, 3-(3,4-dichlorophenyl)-1,1-dimethylurea and its metabolites convertible to 3,4-dichloroaniline in or on food commodities, as follows:

Commodity | Parts per million
Alfalfa, forage | 3.0
Alfalfa, hay | 2.0
Apple | 0.1
Artichoke, globe | 1
Asparagus | 7
Banana | 0.1
Berry group 13 | 0.1
Cattle, fat | 1
Cattle, meat | 1
Cattle, meat byproducts | 1
Citrus, oil | 3.0
Corn, field, grain | 0.1
Corn, pop, grain | 0.1
Cotton, undelinted seed | 0.2
Fish - freshwater finfish, farm raised | 2.0
Fruit, citrus, group 10, except lemon | 0.05
Goat, fat | 1
Goat, meat | 1
Goat, meat byproducts | 1
Grain, aspirated fractions | 5.0
Grape | 0.05
Grass, forage, except bermudagrass | 2
Grass, hay, except bermudagrass | 2
Hazelnut | 0.1
Hog, fat | 1
Hog, meat | 1
Hog, meat byproducts | 1
Horse, fat | 1
Horse, meat | 1
Horse, meat byproducts | 1
Lemon | 0.5
Nut, macadamia | 0.05
Olive | 1
Papaya | 0.5
Peach | 0.1
Pear | 1
Pea, field, seed | 0.1
Pea, field, vines | 2
Pea, field, hay | 2
Pecan | 0.05
Peppermint, tops | 1.5
Pineapple | 0.1
Pineapple, process residue | 0.4
Sheep, fat | 1
Sheep, meat | 1
Sheep, meat byproducts | 1
Sorghum, grain, forage | 2
Sorghum, grain, grain | 0.5
Sorghum, grain, stover | 2
Spearmint, tops | 1.5
Sugarcane, cane | 0.2
Sugarcane, molasses | 0.7
Walnut | 0.05
Wheat, bran | 0.7
Wheat, forage | 2
Wheat, grain | 0.5
Wheat, hay | 2
Wheat, straw | 1.5

(b) * * *

Commodity | Parts per million | Expiration/Revocation Date
Catfish | 2.0 | 06/30/08

(c) * * *

Commodity | Parts per million
Barley, bran | 0.7
Barley, grain | 0.2
Barley, hay | 2
Barley, straw | 1.5
Cactus | 0.05
Clover, forage | 0.1
Clover, hay | 1.0
Oat, forage | 2
Oat, grain | 0.1
Oat, hay | 2
Oat, straw | 1.5
Trefoil, forage | 0.1
Trefoil, hay | 1.5
Vetch, forage | 0.1
Vetch, hay | 1.5

* * * * *

§ 180.111 [Amended]

4. Section 180.111 is amended by removing the entries for flax, straw; lespedeza, seed; lespedeza, straw; vetch, seed; and vetch, straw from the table in paragraph (a)(1).

5. Section 180.116 is amended by revising the table in paragraph (a) and footnote 1 to read as follows:

§ 180.116 Ziram; tolerances for residues.

(a) * * *

Commodity | Parts per million
Almond | 0.1¹
Apple | 7.0¹
Apricot | 7.0¹
Blackberry | 7.0¹
Blueberry | 7.0¹
Cherry, sweet | 7.0¹
Cherry, tart | 7.0¹
Grape | 7.0
Huckleberry | 7.0
Peach | 7.0
Pear | 7.0¹
Pecan | 0.1
Quince | 7.0¹
Strawberry | 7.0
Tomato | 7.0¹
¹ Some of these tolerances were established on the basis of data acquired at the public hearings held in 1950 (formerly § 180.101) and the remainder were established on the basis of pesticide petitions presented under the procedure specified in the amendment to the Federal Food, Drug, and Cosmetic Act by Public Law 518, 83d Congress (68 Stat. 511)

* * * * *

6. Section 180.121 is amended by revising the table in paragraph (a) to read as follows:

§ 180.121 Methyl parathion; tolerances for residues.

(a) * * *

Commodity | Parts per million | Expiration/Revocation Date
Alfalfa, forage | 1.25 | None
Alfalfa, hay | 5.0 | None
Almond | 0.1 | None
Almond, hulls | 3.0 | None
Barley | 1.0 | None
Bean, dry, seed | 1.0 | 1/24/09
Beet, sugar, roots | 0.1 | 1/24/09
Beet, sugar, tops | 0.1 | 1/24/09
Cabbage | 1.0 | 1/24/09
Corn | 1.0 | None
Corn, field, forage | 1.0 | None
Corn, sweet, forage | 1.0 | None
Cotton, undelinted seed | 0.75 | None
Grass, forage | 1.0 | None
Hop, dried cones | 1.0 | 1/24/09
Oat | 1.0 | None
Onion | 1.0 | None
Peanut | 1.0 | None
Pea, dry, seed | 1.0 | 1/24/09
Pea, field, vines | 1.0 | None
Pecan | 0.1 | 1/24/09
Potato | 0.1 | None
Rapeseed, seed | 0.2 | None
Rice, grain | 1.0 | None
Soybean, seed | 0.1 | None
Soybean, hay | 1.0 | None
Sunflower, seed | 0.2 | None
Sweet potato, roots | 0.1 | None
Walnut | 0.1 | None
Wheat | 1.0 | None

* * * * *

7. Section 180.129 is revised to read as follows:

§ 180.129 o-Phenylphenol and its sodium salt; tolerances for residues.

(a) General. Tolerances are established for combined residues of the fungicide o-phenylphenol and sodium o-phenylphenate, each expressed as o-phenylphenol, from postharvest application of either in or on the following food commodities:

Commodity | Parts per million
Apple | 25
Cantaloupe (NMT 10 ppm in edible portion) | 125
Carrot, roots | 20
Cherry | 5
Citrus fruits | 10
Cucumber | 10
Lemon | 10
Nectarine | 5
Orange | 10
Pepper, bell | 10
Peach | 20
Pear | 25.0
Pineapple | 10
Plum, prune, fresh | 20
Sweet potato, roots | 15
Tomato | 10

(b) Section 18 emergency exemptions. [Reserved]

(c) Tolerances with regional registrations. [Reserved]

(d) Indirect or inadvertent residues. [Reserved]

§ 180.167 [Removed]

8. Section 180.167 is removed.

9. Section 180.183 is amended by revising the table in paragraph (a) to read as follows:

§ 180.183 O,O-Diethyl S-[2-(ethylthio)ethyl] phosphorodithioate; tolerances for residues.

(a) * * *

Commodity | Parts per million
Barley, grain | 0.75
Barley, straw | 5.0
Bean, lima | 0.75
Bean, snap, succulent | 0.75
Broccoli | 0.75
Brussels sprouts | 0.75
Cabbage | 0.75
Cauliflower | 0.75
Coffee, bean | 0.3
Cotton, undelinted seed | 0.75
Lettuce | 0.75
Peanut | 0.75
Pea, dry, seed | 0.75
Pea, field, vines | 5.0
Pea, succulent | 0.75
Pepper | 0.1
Potato | 0.75
Spinach | 0.75
Tomato | 0.75
Wheat, hay | 5.0
Wheat, grain | 0.3
Wheat, straw | 5.0

* * * * *

§ 180.205 [Amended]

10. Section 180.205 is amended by removing the entries for bean, dry, seed; bean, lima, succulent; bean, snap succulent; cucurbits; nut; pea, dry, seed; and pea, succulent from the table in paragraph (a).

11. Section 180.227 is amended by revising the tables in paragraphs (a)(1), (a)(2)and (a)(3) to read as follows:

§ 180.227 Dicamba; tolerances for residues.

(a) * * * (1) * * *

Commodity | Parts per million
Barley, grain | 6.0
Barley, hay | 2.0
Barley, straw | 15.0
Corn, field, forage | 3.0
Corn, field, grain | 0.1
Corn, field, stover | 3.0
Corn, pop, grain | 0.1
Corn, pop, stover | 3.0
Corn, sweet, forage | 0.50
Corn, sweet, kernal plus cob with husks | 0.04
Corn, sweet, stover | 0.50
Cotton, undelinted seed | 0.2
Grass, forage, fodder and hay, group 17, forage | 125.0
Grass, forage, fodder and hay, group 17, hay | 200.0
Millet, proso, forage | 90.0
Millet, proso, grain | 2.0
Millet, proso, hay | 40.0
Millet, proso, straw | 30.0
Oat, forage | 90.0
Oat, grain | 2.0
Oat, hay | 40.0
Oat, straw | 30.0
Rye, forage | 90.0
Rye, grain | 2.0
Rye, straw | 30.0
Sorghum, grain, forage | 3.0
Sorghum, grain, grain | 4.0
Sorghum, grain, stover | 10.0
Sugarcane, cane | 0.1
Sugarcane, molasses | 2.0
Wheat, forage | 90.0
Wheat, grain | 2.0
Wheat, hay | 40.0
Wheat, straw | 30.0

(2) * * *

Commodity | Parts per million
Asparagus | 4.0
Cattle, fat | 0.3
Cattle, kidney | 25.0
Cattle, meat | 0.25
Cattle, meat byproducts, except kidney | 3.0
Goat, fat | 0.3
Goat, kidney | 25.0
Goat, meat | 0.25
Goat, meat byproducts, except kidney | 3.0
Hog, fat | 0.3
Hog, kidney | 25.0
Hog, meat | 0.25
Hog, meat byproducts, except kidney | 3.0
Horse, fat | 0.3
Horse, kidney | 25.0
Horse, meat | 0.25
Horse, meat byproducts, except kidney | 3.0
Milk | 0.2
Sheep, fat | 0.3
Sheep, kidney | 25.0
Sheep, meat | 0.25
Sheep, meat byproducts, except kidney | 3.0

(3) * * *

Commodity | Parts per million
Grain, aspirated fractions | 1000
Soybean, hulls | 30.0
Soybean, seed | 10.0

* * * * *

12. Section 180.245 is amended by revising paragraph (a)(1) to read as follows:

§ 180.245 Streptomycin; tolerances for residues.

(a) * * * (1) Tolerances are established for residues of the fungicide streptomycin in or on food commodities, as follows:

Commodity | Parts per million
Bean, dry, seed | 0.5
Bean, succulent | 0.5
Fruit, pome, group 11 | 0.25

* * * * *

13. Section 180.258 is amended by revising the table in paragraph (a), and by removing the text from paragraph (c) and reserving the paragraph designation and heading to read as follows:

§ 180.258 Ametryn; tolerances for residues.

(a) * * *

Commodity | Parts per million
Banana | 0.25
Corn, field, forage | 0.1
Corn, field, grain | 0.05
Corn, field, stover | 0.05
Corn, pop, grain | 0.05
Corn, pop, stover | 0.05
Corn, sweet, forage | 0.5
Corn, sweet, kernel plus cob with husks removed | 0.25
Corn, sweet, stover | 0.5
Pineapple | 0.05
Sugarcane, cane | 0.05

* * * * *

(c) Tolerances with regional registrations. [Reserved]

14. Section 180.259 is amended by revising the table in paragraph (a) to read as follows:

§ 180.259 Propargite; tolerances for residues.

(a) * * *

Commodity | Parts per million
Almond | 0.1
Almond, hulls | 55.0
Bean, dry, seed | 0.2
Cattle, fat | 0.1
Cattle, meat | 0.1
Cattle, meat byproducts | 0.1
Citrus, oil | 30.0
Corn, field, forage | 10.0
Corn, field, grain | 0.1
Corn, field, stover | 10.0
Corn, pop, grain | 0.1
Corn, pop, stover | 10.0
Corn, sweet, forage | 10.0
Corn, sweet, stover | 10.0
Cotton, undelinted seed | 0.1
Egg | 0.1
Goat, fat | 0.1
Goat, meat | 0.1
Goat, meat byproducts | 0.1
Grain, aspirated fractions | 0.4
Grape | 10.0
Grapefruit | 5.0
Hog, fat | 0.1
Hog, meat | 0.1
Hog, meat byproducts | 0.1
Hop, dried cones | 100.0
Horse, fat | 0.1
Horse, meat | 0.1
Horse, meat byproducts | 0.1
Lemon | 5.0
Milk, fat (0.08 ppm in milk) | 2.0
Nectarine | 4.0
Orange | 10.0
Peanut | 0.1
Peppermint, tops | 50.0
Poultry, fat | 0.1
Potato | 0.1
Sheep, fat | 0.1
Sheep, meat | 0.1
Sheep, meat byproducts | 0.1
Sorghum, grain, forage | 10.0
Sorghum, grain, grain | 5.0
Sorghum, grain, stover | 10.0
Spearmint, tops | 50.0
Tea, dried | 10.0
Walnut | 0.1

§ 180.262 [Amended]

15. Section 180.262 is amended by removing the entries for peanut and peanut, hay from the table in paragraph (a).

§ 180.269 [Amended]

16. Section 180.269 is amended by removing the entries for sugarcane, forage and sugarcane, stover from the table in paragraph (a).

17. Section 180.303 is revised to read as follows:

§ 180.303 Oxamyl; tolerances for residues.

(a) General. Tolerances are established for the combined residues of the insecticide oxamyl, methyl N,N-dimethyl-N-[(methylcarbamoyl)-oxy]-1-thiooxamimidate, and its oxime metabolite methyl N,N-dimethyl-N-hydroxy-1-thiooxamimidate calculated as oxamyl in or on the following food commodities:

Commodity | Parts per million
Apple | 2
Banana | 0.3
Cantaloupe | 2.0
Carrot | 0.1
Celery | 10.0
Cotton, undelinted seed | 0.2
Cucumber | 2.0
Eggplant | 2.0
Fruit, citrus, group 10 | 3
Garlic, bulb | 0.2
Melon, honeydew | 2.0
Onion, bulb | 0.2
Peanut | 0.05
Peanut, hay | 2.0
Pear | 2.0
Peppermint, tops | 10.0
Pepper, bell | 2.0
Pepper, nonbell | 5.0
Pineapple | 1
Pineapple, process residue | 2.0
Pumpkin | 0.2
Soybean, seed | 0.1
Spearmint, tops | 10.0
Squash, summer | 2.0
Squash, winter | 0.2
Tomato | 2
Vegetable, tuberous and corm, subgroup 1C | 0.1
Watermelon | 2.0

(b) Section 18 emergency exemptions. [Reserved]

(c) Tolerances with regional registrations. [Reserved]

(d) Indirect or inadvertent residues. [Reserved]

18. Section 180.331 is revised to read as follows:

§ 180.331 4-(2,4-Dichlorophenoxy) butyric acid; tolerances for residues.

(a) General. Tolerances are established for residues of the herbicide 4-(2,4-dichlorophenoxy) butyric acid (2,4-DB), both free and conjugated, determined as the acid, in or on food commodities, as follows:

Commodity | Parts per million
Alfalfa, forage | 0.7
Alfalfa, hay | 2.0
Cattle, meat byproducts | 0.05
Clover | 0.2
Goat, meat byproducts | 0.05
Hog, meat byproducts | 0.05
Horse, meat byproducts | 0.05
Peanut | 0.2
Peppermint, tops | 0.2
Sheep, meat byproducts | 0.05
Soybean, forage | 0.7
Soybean, hay | 2.0
Soybean, seed | 0.5
Spearmint, tops | 0.2
Trefoil, forage | 0.7
Trefoil, hay | 2.0

(b) Section 18 emergency exemptions. [Reserved]

(c) Tolerances with regional registrations. [Reserved]

(d) Indirect or inadvertent residues. [Reserved]

19. Section 180.370 is amended by alphabetically adding an entry for the commodity peanut, hay to the table in paragraph (a), to read as follows:

§ 180.370 5-Ethoxy-3-(trichloromethyl)-1,2,4-thiadiazole; tolerances for residues.

(a) * * *

Commodity | Parts per million
* * * * *
Peanut, hay | 0.1
* * * * *

20. Section 180.372 is revised to read as follows:

§ 180.372 2,6-Dimethyl-4-tridecylmorpholine; tolerances for residues.

(a) General. A tolerance is established for residues of the fungicide 2,6-dimethyl-4-tridecylmorpholine in or on the following food commodity:

Commodity | Parts per million
Banana¹ | 1.0
¹There are no U.S. registrations.

(b) Section 18 emergency exemptions. [Reserved]

(c) Tolerances with regional registrations. [Reserved]

(d) Indirect or inadvertent residues. [Reserved]

§ 180.381 [Amended]

21. Section 180.381 is amended by removing the entry for corn, pop, grain from the table in paragraph (a).

22. Section 180.406 is amended by revising the table in paragraph (a) to read as follows:

§ 180.406 Dimethipin; tolerances for residues.

(a) * * *

Commodity | Parts per million | Expiration/Revocation Date
Cattle, meat | 0.01 | 5/31/10
Cattle, meat byproducts | 0.01 | 5/31/10
Cotton, undelinted seed | 0.50 | 5/31/10
Goat, meat | 0.01 | 5/31/10
Goat, meat byproducts | 0.01 | 5/31/10
Hog, meat | 0.01 | 5/31/10
Hog, meat byproducts | 0.01 | 5/31/10
Horse, meat | 0.01 | 5/31/10
Horse, meat byproducts | 0.01 | 5/31/10
Sheep, meat | 0.01 | 5/31/10
Sheep, meat byproducts | 0.01 | 5/31/10

23. Section 180.410 is revised to read as follows:

§ 180.410 Triadimefon; tolerances for residues.

(a) General. Tolerances are established for the combined residues of the fungicide triadimefon, 1-(4-chlorophenoxy)-3,3-dimethyl-1-(1H-1,2,4-triazol-1-yl)-2-butanone and triadimenol, β-(4-chlorophenoxy)-α-(1,1-dimethylethyl)-1H-1,2,4-triazole-1-ethanol, expressed as triadimefon, in or on the following food commodities:

Commodity | Parts per million
Pineapple | 2.0

(b) Section 18 emergency exemptions. [Reserved]

(c) Tolerances with regional registrations. [Reserved]

(d) Indirect or inadvertent residues. [Reserved]

24. Section 180.450 is revised to read as follows:

§ 180.450 Beta-(4-Chlorophenoxy)-alpha-(1,1-dimethylethyl)-1H-1,2,4,-triazole-1-ethanol; tolerances for residues.

(a) General. Tolerances are established for the combined residues of the fungicide β-(4-chlorophenoxy)-α-(1,1-dimethyl-ethyl)-1H-1,2,4-triazole-1-ethanol (triademenol) and its butanediol metabolite, 4-(4-chlorophenoxy)-2,2-dimethyl-4-(1H-1,2,4-triazol-l-yl)-1,3-butanediol, calculated as triadimenol, in or on the following commodities:

Commodity | Parts per million
Banana¹ | 0.2
Barley, grain | 0.05
Barley, straw | 0.2
Corn, field, forage | 0.05
Corn, field, grain | 0.05
Corn, field, stover | 0.05
Corn, pop, grain | 0.05
Corn, pop, stover | 0.05
Corn, sweet, forage | 0.05
Corn, sweet, kernel plus cob with husks removed | 0.05
Corn, sweet, stover | 0.05
Cotton, undelinted seed | 0.02
Oat, forage | 2.5
Oat, grain | 0.05
Oat, straw | 0.2
Rye, forage | 2.5
Rye, grain | 0.05
Rye, straw | 0.1
Sorghum, forage, hay | 0.05
Sorghum, grain, grain | 0.01
Sorghum, grain, stover | 0.01
Wheat, forage | 2.5
Wheat, grain | 0.05
Wheat, straw | 0.2
¹ There are no U.S. registrations for banana (whole) as of September 22, 1993.

(b) Section 18 emergency exemptions. [Reserved]

(c) Tolerances with regional registrations. [Reserved]

(d) Indirect or inadvertent residues. [Reserved]

25. Section 180.491 is amended by revising the tables in paragraphs (a)(1) and (a)(2) to read as follows:

§ 180.491 Propylene oxide; tolerances for residues.

(a) * * * (1) * * *

Commodity | Parts per million
Cacao bean, dried bean | 200
Cacao bean, cocoa powder | 200
Fig | 3.0
Garlic, dried | 300
Grape, raisin | 1.0
Herbs and spices, group 19, dried | 300
Nut, tree, group 14 | 300
Onion, dried | 300
Plum, prune, dried | 2.0

(2) * * *

Commodity | Parts per million
Basil, dried leaves | 6000
Cacao bean, dried bean | 20.0
Cacao bean, cocoa powder | 20.0
Fig | 3.0
Garlic, dried | 6000
Grape, raisin | 4.0
Herbs and spices, group 19, dried, except basil | 1500
Nut, tree, group 14 | 10.0
Onion, dried | 6000
Plum, prune, dried | 2.0

26. Section 180.523 is revised to read as follows:

§ 180.523 Metaldehyde; tolerances for residues.

(a) General. Tolerances are established for residues of the molluscicide metaldehyde in or on food commodities, as follows:

Commodity | Parts per million
Artichoke, globe | 0.07
Berry group 13 | 0.15
Cactus | 0.07
Fruit, citrus, group 10 | 0.26
Lettuce | 1.73
Strawberry | 6.25
Tomato | 0.24
Vegetable, brassica, leafy, group 5 | 2.5
Watercress | 3.2

(b) Section 18 emergency exemptions. [Reserved]

(c) Tolerances with regional registrations. [Reserved]

(d) Indirect or inadvertent residues. [Reserved]

27. Section 180.540 is revised to read as follows:

§ 180.540 Fenitrothion; tolerances for residues.

(a) General. A tolerance is established for residues of the insecticide fenitrothion, O,O-dimethyl O-(4-nitro-m-tolyl) phosphorothioate, from the postharvest application of the insecticide to stored wheat in Australia, in or on the following food commodity:

Commodity | Parts per million
Wheat, gluten¹ | 3.0
¹ There are no U.S. registrations on food commodities since 1987.

(b) Section 18 emergency exemptions. [Reserved]

(c) Tolerances with regional registrations. [Reserved]

(d) Indirect or inadvertent residues. [Reserved]

[FR Doc. E8-12374 Filed 6-3-08; 8:45 am]

BILLING CODE 6560-50-S